DEPARTMENT OF STATE

[Public Notice: 10695]

Office of the Chief of Protocol; Gifts to Federal Employees From Foreign Government Sources Reported To Employing Agencies in Calendar Year 2017

The Office of the Chief of Protocol, Department of State, submits the following comprehensive listing of the statements which, as required by law, federal employees filed with their employing agencies during calendar year 2017 concerning gifts received from foreign government sources. The compilation includes reports of both tangible gifts and gifts of travel or travel expenses of more than minimal value, as defined by the statute. Also included are gifts received in previous years including one gift in 2011, four gifts in 2012, two gifts in 2013, two gifts in 2014, seven gifts in 2015, and one gift with an unknown date. These latter gifts are being reported in this year's report as the Office of the Chief of Protocol, Department of State, did not receive the relevant information to include them in earlier reports. Any agency not listed in this report either did not receive any gifts during the calendar year or did not respond to the Office of the Chief of Protocol's call for data.

Publication of this listing in the Federal Register is required by Section 7342(f) of Title 5, United States Code, as added by Section 515(a)(l) of the Foreign Relations Authorization Act, Fiscal Year 1978 (Pub. L. 95-105, August 17, 1977, 91 Stat. 865).

Dated: Feb 26 2019.
William E. Todd,
Deputy Under Secretary for Management, U.S. Department of State.

Agency: The White House—Executive Office of the President
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable Donald J. Trump, President of the United States | Statue, carved Ohio sandstone, in 2 pieces, depicting standing male lion wearing crown, over cross and orb, rectangular base. Rec'd 2/13/17. Est. Value—$450.00. Disposition—Transferred to National Archives Records Administration (NARA) | The Right Honorable Justin Trudeau, P.C., M.P., Prime Minister of Canada | Non-acceptance would cause embarrassment to donor and U.S. Government.
The Honorable Donald J. Trump, President of the United States | A black Kuna Guanaco luxury scarf that measures 72 inches long by 12 inches wide. Rec'd 2/24/17. Est. Value—$650.00. Disposition—Transferred to NARA | His Excellency Pedro Pablo Kuczynski Godard, President of the Republic of Peru | Non-acceptance would cause embarrassment to donor and U.S. Government.
The Honorable Donald J. Trump, President of the United States | Paper panel displaying 5 columns of black calligraphy, mounted within machined white silk border, in wood frame, 35 inches long x 71 inches wide, in carrying/presentation box clad in yellow silk, jar with lid (“zun”), comprised of 3 sections of gilt bronze cloisonné plus clear glass medial section displaying hand-painted scene of lakeside pavilion, 28″h x 11-1/2″d, accompanied by 2-tier round wood stand with silver wire inlay 3-7/8″h, in leather-clad presentation box. Flaring top section includes gilt dragon head handles with drop rings. Flaring bottom section includes top band with applied jade cabochons. Rec'd 4/7/17. Est. Value—$14,400.00. Disposition—Transferred to NARA | His Excellency Xi Jinping, President of the People's Republic of China | Non-acceptance would cause embarrassment to donor and U.S. Government.
The Honorable Donald J. Trump, President of the United States | Print, limited edition, printed on paper embossed “Tintin/Herge/since 1929”, cartoon depicting cowboy eating out of a frying pan with dog eating bone, while Indians approach from behind, in oak frame. Rec'd 4/24/17. Est. Value—$470.00. Disposition—Transferred to NARA | His Excellency Charles Michel, Prime Minister of Belgium | Non-acceptance would cause embarrassment to donor and U.S. Government.
The Honorable Donald J. Trump, President of the United States | Sculpture, bronze, by William & Son of London, of 3 standing Oryx, including 2 adults and one infant in between, oval base marked along front right edge “DYER 2009”, 8″h x 11-1/2″w x 5″d, tagged as “Crown Prince Court/Emirate of Abu Dhabi/Oryx Sculpture—Limited Edition 179/200”, in presentation box. Rec'd 5/15/17. Est. Value—$3,700.00. Disposition—Transferred to NARA | His Royal Highness Sheikh Mohamed bin Zayed Al Nayhan Crown Prince of Abu Dhabi and Deputy Supreme Commander of the United Arab Emirates Armed Forces | Non-acceptance would cause embarrassment to donor and U.S. Government.
The Honorable Donald J. Trump, President of the United States | Pendant necklace, consisting of 14-point white/green enameled star, (“750” denoting 18K gold), dangling beneath gold-plated palm tree and crossed sabers, joined to 21 linked panels of gold-plated openwork displaying panels of crossed sabers on foliate arabesques, alternating with panels of foliate arabesques further decorated with four emeralds or rubies each, in green leatherette presentation box. Rec'd 5/21/17. Est. Value—$6,400.00. Disposition—Transferred to NARA | Salman bin Abd al-Aziz Al Saud, Custodian of the Two Holy Mosques, King of the Kingdom of Saudi Arabia | Non-acceptance would cause embarrassment to donor and U.S. Government.
The Honorable Donald J. Trump, President of the United States | Set of 6 gold-plated silver Kuwaiti coins, encased in plastic, in presentation box, coin, Kuwaiti, gold, commemorating humanitarian work by Amir, his portrait over “2014” in front, UN symbol in back, in plastic case, in glossy black presentation box with piercecut Kuwaiti emblem/roundel on hinged lid. Rec'd 5/21/17. Est. Value—$1,610.00. Disposition—Transferred to NARA | His Highness Sheikh Sabah Al-Ahmad Al-Jaber Al-Sabah, Amir of the State of Kuwait | Non-acceptance would cause embarrassment to donor and U.S. Government.
The Honorable Donald J. Trump, President of the United States | Photograph of Saudi King wearing gold/silver thread robe, signed, dated 2017 in sterling silver (stamped “925”) frame by Del Conte of Florence, having convex front band plus beaded inner band against goldenrod-color leatherette backing, in Del Conte brocade bag in presentation box. Rec'd 5/21/17. Est. Value—$1,380.00. Disposition—Transferred to NARA | Kingdom of Saudi Arabia | Non-acceptance would cause embarrassment to donor and U.S. Government.
The Honorable Donald J. Trump, President of the United States | Framed assemblage of 12 gold-tone items in miniature relating to Saudi Arabia surrounding sepia tone photo of Trump, in wood frame ornamented with repousse brass work, in presentation box/carrying case. Rec'd 5/21/17. Est. Value—$790.00. Disposition—Transferred to NARA | Mr. Azzeldin Aliyan, Kingdom of Saudi Arabia | Non-acceptance would cause embarrassment to donor and U.S. Government.
The Honorable Donald J. Trump, President of the United States | Carrying case of polished striped wood with medial brown reptile skin on hinged lid, two 3-digit combination locks, opening to disclose 3 gold-tone melon-shape bottles with crown-shape twist caps, marked “ALTAJ—Royal Perfume Oman”, in presentation box. Rec'd 5/21/17. Est. Value—$1,260.00. Disposition—Pending transfer to NARA | Sayyid Fahad bin Mahmoud Al-Said, Deputy Prime Minister for Cabinet Affairs of the Sultanate of Oman | Non-acceptance would cause embarrassment to donor and U.S. Government.
The Honorable Donald J. Trump, President of the United States | Model oil well surface cap valve system of pressure gauge over 7 wheel valves, silver-tone metal, tagged “Burgan Field Discover Well BG-I-IM/Kuwait Oil Company Ltd.” in plastic display case on wood stand with wood cover, marked “With Compliments of Amir of The State of Kuwait”. Rec'd 5/21/17. Est. Value—$470.00. Disposition—Transferred to NARA | His Royal Highness Sheikh Mohamed Bin Zayed Al Nayhan Crown Prince of Abu Dhabi and Deputy Supreme Commander of the UAE Armed Forces | Non-acceptance would cause embarrassment to donor and U.S. Government.
The Honorable Donald J. Trump, President of the United States | Book, hardcover, Psalms, in English and Hebrew, “heirloom edition” created by The Jerusalem Art Bindery, published by The Western Wall Heritage Foundation, marbleized end pages including signed card from Shmuel Rabinowitz and Mordechai Eliav, front cover stamped to Donald Trump, in tooled leather sleeve adhered to leather-clad tiered stand. Rec'd 5/22/17. Est. Value—$4,500.00. Disposition—Transferred to NARA | Rabbi Shmuel Rabinowitz of Western Wall and Holy Sites | Non-acceptance would cause embarrassment to donor and U.S. Government.
The Honorable Donald J. Trump, President of the United States | Tray, sterling grade silver (stamped “925” under rim), oblong, flat polished tab ends flanking bark-texture concave portion, engraved with bird over 4 flags over script “Juan Manuel Santos/Presidente de Colombia 2014-2018”, in presentation box clad in raw linen with embroidered gold-tone presidential seal. Rec'd 5/23/17. Est. Value—$775.00. Disposition—Transferred to NARA | His Excellency Juan Manuel Santos Calderón, President of the Republic of Colombia | Non-acceptance would cause embarrassment to donor and U.S. Government.
The Honorable Donald J. Trump, President of the United States | Portrait of President Trump, smiling, wearing red necktie, done on mother-of-pearl panels, in frame also of mother-of-pearl tagged from President Mahmoud Abbas of Palestine, the frame band of white floral/foliate designs applied over purple/green shell, in presentation box. Rec'd 5/23/17. Est. Value—$920.00. Disposition—Transferred to NARA | His Excellency Mahmoud Abbas, President of the Palestinian Authority | Non-acceptance would cause embarrassment to donor and U.S. Government.
The Honorable Donald J. Trump, President of the United States | Glass art, plate glass rectangle incised to create a brown menorah with continuous bulbous parts, mounted on rectangular plate glass base. Accompanying documentation cites inspiration from a 6th century bronze menorah found among the remains of Ein Gedi synagogue. Rec'd 5/23/17. Est. Value—$650.00. Disposition—Transferred to NARA | Mr. Ayelet Shiloh Tamir, Acting Director of the Israel Museum | Non-acceptance would cause embarrassment to donor and U.S. Government.
The Honorable Donald J. Trump, President of the United States | Plaque, American flag, in natural color stone, 16″h x 24″w, and the stars incised in the blue field and painted white. Rec'd 5/24/17. Est. Value—$425.00. Disposition—Transferred to NARA | Mr. Salvatore Amore | Non-acceptance would cause embarrassment to donor and U.S. Government.
The Honorable Donald J. Trump, President of the United States | Engraving, black ink, titled “Misericordiae vvltvs”, dated 2016, designed by Pierluigi Isola, print plate prepared and print made on hand-pulled press by Patirizio Di Sciullo, depicting people in foreground, rows of buildings, limited edition #45/200, issued by the Vatican Library; accompanied by booklet and limited edition certificate. Rec'd 5/25/17. Est. Value—$650.00. Disposition—Transferred to NARA | His Eminence Cardinal Pietro Parolin, Secretary of State of the Holy See | Non-acceptance would cause embarrassment to donor and U.S. Government.
The Honorable Donald J. Trump, President of the United States | Portrait of President Trump smiling, holding up left hand, against U.S. Flag, approximately 23″h x 30″w, made of stone granules, called “gemstone painting”, in frame. Rec'd 5/31/17. Est. Value—$1,880.00. Disposition—Transferred to NARA | His Excellency Nguyen Xuan Phuc, Prime Minister of the Socialist Republic of Vietnam | Non-acceptance would cause embarrassment to donor and U.S. Government.
The Honorable Donald J. Trump, President of the United States | Plaque, metal rectangle, 22″h and 41″w, U.S. flag, with “V” shape and triangular areas ornamented with copper-head bullets. Rec'd 6/20/17. Est. Value—$450.00. Disposition—Transferred to NARA | His Excellency Petro Poroshenko, President of Ukraine | Non-acceptance would cause embarrassment to donor and U.S. Government.
The Honorable Donald J. Trump, President of the United States | Sword, replica of sword of Stephen the Great, polished steel blade secured in molded brass hilt/handle including female forms on curved sections, 39″ l, in presentation box. Rec'd 6/20/17. Est. Value—$470.00. Disposition—Transferred to NARA | His Excellency Klaus Werner lohnannis, President of Romania | Non-acceptance would cause embarrassment to donor and U.S. Government.
The Honorable Donald J. Trump, President of the United States | Basket, by Osvaldo Benvenuti of Florence, sterling silver, rectangular, trough-style center/bottom without curving pierce cut walls of grape clusters on foliated serpentine vines, on 4 flaring feet, in black velveteen-lined presentation box. Rec'd 6/23/17. Est. Value—$740.00. Disposition—Transferred to NARA | His Excellency Sergio Mattarella, President of the Italian Republic | Non-acceptance would cause embarrassment to donor and U.S. Government.
The Honorable Donald J. Trump, President of the United States | Chest, displaying marquetry panels on hinged lid plus all 4 sides of foliate cartouches in white in sheesham wood (Indian rosewood), supported on knob feet, interior tray with hand grip cutouts of similar cartouche. Rec'd 6/25/17. Est. Value—$685.00. Disposition—Transferred to NARA | His Excellency Narendra Modi, Prime Minister of the Republic of India | Non-acceptance would cause embarrassment to donor and U.S. Government.
The Honorable Donald J. Trump, President of the United States | Set of 3 lidded black lacquer boxes plus rectangular tray, the lids with mother-of-pearl inlay 4-petal rosettes/circles, reportedly made by Lee Euisik, and designated “Jeollabuk-do Provincial Intangible Cultural Heritage No. 13”, in presentation box. Rec'd 6/29/17. Est. Value—$580.00. Disposition—Transferred to NARA | His Excellency Moon Jae-in, President of the Republic of Korea | Non-acceptance would cause embarrassment to donor and U.S. Government.
The Honorable Donald J. Trump, President of the United States | Album, burgundy leatherette, marked in gold-tone “President of the Republic of Poland/Andrzej Duda”, containing 10 photographs by Czeslaw Czaplinski, grouped under titled page “President Donald J. Trump in New York”, including 1985 black/white photos of Trump plus polychrome photos of Trump Tower, title page with thank you note to Trump signed by Polish president. Rec'd 7/6/17. Est. Value—$850.00. Disposition—Transferred to NARA | His Excellency Mr. Andrzej Duda, President of the Republic of Poland | Non-acceptance would cause embarrassment to donor and U.S. Government.
The Honorable Donald J. Trump, President of the United States | Mont Blanc augmented paper and screen writer pen. Rec'd 7/11/17. Est. Value—$1,765.00. Disposition—Transferred to NARA | Her Excellency Angela Merkel, Chancellor of the Federal Republic of Germany | Non-acceptance would cause embarrassment to donor and U.S. Government.
The Honorable Donald J. Trump, President of the United States | Mont Blanc special edition Meisterstuck Elbphilharmonie 149 fountain pen. Rec'd 7/11/17. Est. Value—$935.00. Disposition—Transferred to NARA | Her Excellency Angela Merkel, Chancellor of the Federal Republic of Germany | Non-acceptance would cause embarrassment to donor and U.S. Government.
The Honorable Donald J. Trump, President of the United States | Map of the United States and the course of the Mississippi River, by Brion de la Tour, 1783, with hand-colored outlines, matted and framed. Rec'd 7/13/17. Est. Value—$1,100.00. Disposition—Transferred to NARA | His Excellency Emmanuel Macron, President of the French Republic | Non-acceptance would cause embarrassment to donor and U.S. Government.
The Honorable Donald J. Trump, President of the United States | Painting on canvas, depicting wide black calligraphic-like brush strokes against white, in wood frame painted white. Rec'd 7/27/17. Est. Value—$1,800.00. Disposition—Transferred to NARA | Salman bin Abd al-Aziz Al Saud, Custodian of the Two Holy Mosques, King of the Kingdom of Saudi Arabia | Non-acceptance would cause embarrassment to donor and U.S. Government.
The Honorable Donald J. Trump, President of the United States | Bronze sculpture of a manatee rising head first, approx. 7-1/4″ long, mounted on dark stone disk, by William & Son, tagged as “Dugong Sculpture—limited edition 27/200—Crown Prince Court—Emirate of Abu Dhabi”, 2-door presentation case. Rec'd 7/31/17. Est. Value—$1,250.00. Disposition—Transferred to NARA | His Royal Highness Mohamed bin Zayed Al Nahyan, Crown Prince of Abu Dhabi and Deputy Supreme Commander of the United Arab Emirates Armed Forces | Non-acceptance would cause embarrassment to donor and U.S. Government.
The Honorable Donald J. Trump, President of the United States | Textile, Malaysian, approx. 36″ x 58″, in 7 colors including metallic threads, depicting rosettes and palmettes on curvilinear vines, framed. Rec'd 9/12/17. Est. Value—$550.00. Disposition—Transferred to NARA | His Excellency Dato' Sri Haji Mohammad Najib bin Tun Haji Abdul Razak, Prime Minister of Malaysia | Non-acceptance would cause embarrassment to donor and U.S. Government.
The Honorable Donald J. Trump, President of the United States | Table lamp, plus tray base plus 4-legged stand, walnut, the polygonal lamp of pentagons and hexagons, each having centered 5-petal or 6-petal rosette, 18″w; the tray 16″ square of bars in openwork design. Rec'd 9/27/17. Est. Value—$540.00. Disposition—Transferred to NARA | His Excellency Dr. Mohammad Ashraf Ghani, President of the Islamic Republic of Afghanistan | Non-acceptance would cause embarrassment to donor and U.S. Government.
The Honorable Donald J. Trump, President of the United States | Chess set plus box with playing board on top and drawer, probably made of “palo santo” (an odiferous wood) and ash, by Zenon Paez of Paraguay. The hand-carved playing pieces of people/building/ship represent the Paraguayan forces (light wood) versus the Triplice (dark wood) who fought 1864-1870 in the war of the triple alliance. Rec'd 10/18/17. Est. Value—$1,800.00. Disposition—Transferred to NARA | His Excellency Horacio Cartes, President of the Republic of Paraguay | Non-acceptance would cause embarrassment to donor and U.S. Government.
The Honorable Donald J. Trump, President of the United States | Print, marked bottom right “Fong Gi Wei”, entitled “Sunset at Marina Bay Sands”, depicting imaginary buildings along water's edge, including 3 tall building topped by a surfboard-shape structure with plantings, framed. Rec'd 10/23/17. Est. Value—$900.00. Disposition—Transferred to NARA | His Excellency Lee Hsien Loong, Prime Minister of the Republic of Singapore | Non-acceptance would cause embarrassment to donor and U.S. Government.
The Honorable Donald J. Trump, President of the United States | Jet fighter model in sterling silver with gold-plating, 17″l x 12″w, having 2 underhung missiles and 4 rockets, mounted on “C”-curve stand tagged as made by “DMc” and assayed in London with “S” date mark, presented by the Crown Prince of Bahrain, in navy blue leatherette-clad presentation box. Rec'd 11/2/17. Est. Value—$4,850.00. Disposition—Transferred to NARA | His Royal Highness Prince Salman bin Hamad bin Isa al Khalifa, Deputy King, Crown Prince of the Kingdom of Bahrain | Non-acceptance would cause embarrassment to donor and U.S. Government.
The Honorable Donald J. Trump, President of the United States | Silk embroidery, hand done, depicting head of a white-headed eagle with yellow beak facing right plus tops of wings against black, approx. 18-1/2″h x 27-1/2″w, in double mats and frame, in presentation box. Rec'd 11/8/17. Est. Value—$880.00. Disposition—Pending transfer to NARA | His Excellency Xi Jinping, President of the People's Republic of China | Non-acceptance would cause embarrassment to donor and U.S. Government.
The Honorable Donald J. Trump, President of the United States | Painting, acrylic on wood panel, depicting triangles of crosshatching in tan, red, green, black, white, signed/dated bottom left “Jane Arietta Ebarle 2017”, in black inner frame and matte gold-tone outer frame, titled on back “Hibla Ng T'boli 2”, reportedly inspired by artwork of the T'boli tribe of South Cotabato on a tobacco container made of bamboo, in black silk-clad presentation box. Rec'd 11/14/17. Est. Value—$470.00. Disposition—Pending transfer to NARA | His Excellency Rodrigo Roa Duterte, President of the Philippines | Non-acceptance would cause embarrassment to donor and U.S. Government.
The Honorable Donald J. Trump, President of the United States & Mrs. Melania Trump, First Lady of the United States | Footed bowl, clear cut crystal, by Criostal na Rinne, by master craftsman Eamonn Terry, having 8-lobed scalloped rim, over fan cuts alternating with shamrock clusters, one portion with frosted glass ovoid in presentation box. Rec'd 3/15/17. Est. Value—$3,100.00. Disposition—Transferred to NARA | His Excellency Taoiseach Enda Kenny of Ireland and Mrs. Kenny | Non-acceptance would cause embarrassment to donor and U.S. Government.
The Honorable Donald J. Trump, President of the United States & Mrs. Melania Trump, First Lady of the United States | Pendant and chain: Yellow gold pendant cross, back marked “II I0 2005”, arms in blue enamel with borders of diamonds surrounding centered ring of diamonds, in turn surrounding centered champagne-color diamond, on pendant slide stamped “14K”, overall 14.7 grams; accompanied by yellowing old spiral twist neck chain, stamped “585” (denoting 14K) on lappet end, 11.8 grams, in presentation box. Rec'd 5/23/17. Est. Value—$2,900.00. Disposition—Transferred to NARA | Church of the Holy Sepulchre, Jerusalem | Non-acceptance would cause embarrassment to donor and U.S. Government.
The Honorable Donald J. Trump, President of the United States & Mrs. Melania Trump, First Lady of the United States | Cross necklace with large cross pendant with diamond and royal blue gems and are hung on a gold chain. Necklace enclosed in cream box with gold symbols and “2005”. Rec'd 5/23/17. Est. Value—$2,900.00. Disposition—Transferred to NARA | Church of the Holy Sepulchre, Jerusalem | Non-acceptance would cause embarrassment to donor and U.S. Government.
The Honorable Donald J. Trump, President of the United States & Mrs. Melania Trump, First Lady of the United States | Icon, modern copy of neo-Byzantine icon, painted on wood panel, portraying the nativity with angels but without the three wise men, in gilt silver repousse frame having dark green and cream coloring, approx. 25″h x 20″w; in olive wood presentation box, portrait of Mrs. Trump, half-length, arms crossed, looking straight at viewer, photograph printed on mother-of-pearl panels bordered by inverted “V” form band including white mother-of-pearl cutouts applied over green/pink panels, within large border band, approx. 31″h x 23″w, in presentation box. Rec'd 5/23/17. Est. Value—$6,7700.00. Disposition—Transferred to NARA | His Excellency Mahmoud Abbas, President of the Palestinian Authority | Non-acceptance would cause embarrassment to donor and U.S. Government.
The Honorable Donald J. Trump, President of the United States & Mrs. Melania Trump, First Lady of the United States | Nativity scene done in whitish and green/purplish mother-of-pearl panels, the nativity figures appearing beneath a pediment with shooting star in ovoid flanked by scrollwork carving, over a triple arcaded platform, over 2 curving staircases, bottom middle panel stating this as gift from Patriarch of Jerusalem, dated 2017, approx. 24-1/2″h x 24-1/2″w x 8″d; in presentation box. Rec'd 6/2/17. Est. Value—$4,200.00. Disposition—Transferred to NARA | Theophilos III, the Greek Orthodox Patriarch of Jerusalem | Non-acceptance would cause embarrassment to donor and U.S. Government.
The Honorable Donald J. Trump, President of the United States & Mrs. Melania Trump, First Lady of the United States | Books, set of 10 hardcover, published by The Palace Museum, dealing with aspects of the museum's collections, assembled in camphor box with sliding lid incised “The Palace Museum's Essential Collections”, painting of white and pink lotus flowers amid green leaves plus dragon fly at top, matted and framed, in machined silk-clad presentation box. Rec'd 11/8/17. Est. Value—$970.00. Disposition—Pending transfer to NARA | Mr. Shan Jixiang, Palace Museum Director, Beijing, China | Non-acceptance would cause embarrassment to donor and U.S. Government.
Mrs. Melania Trump, First Lady of the United States | Earrings, pair, by Mikimoto, in yellow gold stamped as 18K, incorporating ten round faceted diamonds, plus under hanging 7.5mm pearl with silver-tone nacre, no visible blemishes, post-mounted, in presentation box. Rec'd 2/11/17. Est. Value—$2,200.00. Disposition—Transferred to NARA | Mrs. Akie Abe, Spouse of the Prime Minister of Japan | Non-acceptance would cause embarrassment to donor and U.S. Government.
Mrs. Melania Trump, First Lady of the United States | Necklace from designer Michal Negrin. Rec'd 2/16/17. Est. Value—$900.00. Disposition—Transferred to NARA | Mrs. Sara Netanyahu, Spouse of the Prime Minister of the State of Israel | Non-acceptance would cause embarrassment to donor and U.S. Government.
Mrs. Melania Trump, First Lady of the United States | Dinnerware set, porcelain, approximately 85 pieces, featuring printed polychrome floral design, some of the liquid serving pieces labeled in both Chinese and English, 2 round plates displaying hand-applied slipware-enhanced printed image of the pink house of Mar-a-Lago, accompanied by 2 hinged wood display racks, also 2 glass holders, in 2 transport cases, the lids marked “The People's Republic of China”. Box lid interiors marked “Honav National Banquet Tableware Set”. Rec'd 4/7/17. Est. Value—$16,250.00. Disposition—Pending transfer to NARA | His Excellency Xi Jinping and Madam Peng Liyuan, President and First Lady of the People's Republic of China | Non-acceptance would cause embarrassment to donor and U.S. Government.
Mrs. Melania Trump, First Lady of the United States | Gold bangle with pearl on the end, in brown box from designer Jan Logan. Rec'd 5/4/17. Est. Value—$650.00. Disposition—Transferred to NARA | The Honorable Malcolm Turnbull, Prime Minister of Australia | Non-acceptance would cause embarrassment to donor and U.S. Government.
Mrs. Melania Trump, First Lady of the United States | Black Chopard Classic Racing Rollerball in case. Rec'd 5/21/17. Est. Value—$610.00. Disposition—Transferred to NARA | Kingdom of Saudi Arabia | Non-acceptance would cause embarrassment to donor and U.S. Government.
Mrs. Melania Trump, First Lady of the United States | Jewelry set: Pendant on chain stamped “373” (indicating 9K gold), plus pair of earrings, each displaying round 9mm pearl secured in yellow gold pod stamped “9K” and “COD”, with underhanging green glass bead, in presentation box. Rec'd 5/22/17. Est. Value—$420.00. Disposition—Transferred to NARA | Mrs. Sara Netanyahu, Spouse of the Prime Minister of Israel | Non-acceptance would cause embarrassment to donor and U.S. Government.
Mrs. Melania Trump, First Lady of the United States | Abaya, Saudi, by House of Sama, size S, beige synthetic fabric forming a near square shape with small arm holes at top, front and back displaying medial panel of silver-tone/gray/dark gold-tone foliate arabesques in metallic thread, flanked by side top panels of floral sprigs in same, over side bottom panels of rosettes plus flowers on leafy vines in pink/white silk embroidery in wood presentation box, the lid with inset engraved copper plate of floral geometrics over “House of Sama”. Rec'd 5/22/17. Est. Value—$810.00. Disposition—Transferred to NARA | Kingdom of Saudi Arabia | Non-acceptance would cause embarrassment to donor and U.S. Government.
Mrs. Melania Trump, First Lady of the United States | Rock fragment approx. 1-3/4″ x 1″ x 1/2″, tied by red string covered by red wax seal displaying 5 crosses surrounded by “Jerusalem.Sig.Adm.Sanct.T.S.”, in presentation box clad in mother-of-pearl and abalone segments, the hinged lid with pierce cut square of 5 crosses. Rock is reportedly from the Church of the Holy Sepulchre. Rec'd 5/23/17. Est. Value—$700.00. Disposition—Transferred to NARA | Church of the Holy Sepulchre, Jerusalem | Non-acceptance would cause embarrassment to donor and U.S. Government.
Mrs. Melania Trump, First Lady of the United States | Handbag of Belgian Designer `Delvaux'—limited edition. Approximately 4.5 inches tall and 3.5 inches long. Black in color with the words “ceci n' est pas un Delvaux” written in white on front of bag. Rec'd 5/24/17. Est. Value—$1,020.29. Disposition—Transferred to NARA | Ms. Amélie Derbaudrenghien, Partner of Prime Minister, Kingdom of Belgium | Non-acceptance would cause embarrassment to donor and U.S. Government.
Mrs. Melania Trump, First Lady of the United States | Handbag of Belgian Designer `Delvaux'. Green and measures 10 inches by 2.25 inches, and is approximately 5 inches tall. Rec'd 5/24/17. Est. Value—$2,273.00. Disposition—Transferred to NARA | His Excellency Charles Michel, Prime Minister of the Kingdom of Belgium | Non-acceptance would cause embarrassment to donor and U.S. Government.
Mrs. Melania Trump, First Lady of the United States | Green velvet purse by Sikuly, Sicilian purse company. Has many green tassels that come off of the purse with gold and silver bead trim. Red, yellow and green fabric underline the trim. There are two green velvet handles and the front handle had two gold buttons plus green, yellow, and gold beads. The middle of the purse has a large yellow circle with a blue image in the middle that is a painting of a man in armor. The yellow button has green poms and green and yellow sparkles. Rec'd 5/24/17. Est. Value—$607.00. Disposition—Transferred to NARA | Foreign Government Official | Non-acceptance would cause embarrassment to donor and U.S. Government.
Mrs. Melania Trump, First Lady of the United States | Box, rectangular, lacquered silver foil sides plus left third of hinged lid, lacquered gold-tone foil in middle of lid, dark gold-tone foil on right side of lid, in presentation box clad in red silk. Rec'd 5/25/17. Est. Value—$420.00. Disposition—Transferred to NARA | His Excellency Miro Cerar, Prime Minister of Slovenia and his partner Ms. Mojca Stropnik | Non-acceptance would cause embarrassment to donor and U.S. Government.
Mrs. Melania Trump, First Lady of the United States | Handbag, by Ferragamo of Italy, red Pamplona calf leather, accordion style with flap cover and tongue fitting into front slot bordered by brass-tone “U”, gold-tone chain-link shoulder strap, in Ferragamo linen sack, in Ferragamo presentation box, in Ferragamo shopping bag. Note: Apparently designed specifically for the G7 2017 Summit meeting of 26-27 May 2017 in Taormina, Italy. Rec'd 5/26/17. Est. Value—$3,400.00. Disposition—Transferred to NARA | His Excellence Paolo Gentiloni, Prime Minister of the Italian Republic | Non-acceptance would cause embarrassment to donor and U.S. Government.
Mrs. Melania Trump, First Lady of the United States | Mont Blanc 149 fountain pen, Mont Blanc augmented paper and screen writer pen. Rec'd 7/11/17. Est. Value—$2,564.00. Disposition—Transferred to NARA | Her Excellency Angela Merkel, Chancellor of the Federal Republic of Germany | Non-acceptance would cause embarrassment to donor and U.S. Government.
Mrs. Melania Trump, First Lady of the United States | Clutch, silver-plated brass displaying rosettes and leaf forms, including “C” curve hinged handle with niello design, hinged latch, 4 knob feet, in presentation box. Rec'd 10/3/17. Est. Value—$460.00. Disposition—Transferred to NARA | His Excellency Prayut Chan-o-cha, Prime Minister of the Kingdom of Thailand | Non-acceptance would cause embarrassment to donor and U.S. Government.
Mrs. Melania Trump, First Lady of the United States | Two textiles, in Songket style of West Sumatra, Indonesia, displaying silver-tone silk designs against red silk: body wrap, having wide diamond-pattern band on one edge only, shawl [“selendang”] or table runner, having lace ends with 6-petal embroidered rosettes, also center panel of pink rosettes and silver-tone leaves together in presentation box. Rec'd 10/3/17. Est. Value—$465.00. Disposition—Transferred to NARA | Mrs. Mufidah Jusuf Kalla, Spouse of the Vice President of the Republic of Indonesia | Non-acceptance would cause embarrassment to donor and U.S. Government.
Mrs. Melania Trump, First Lady of the United States | Lotus flower in high relief and flat outline plus bud, leaf, and “C” curves, all in gold-tone against black, in shadow box frame in presentation box. Rec'd 11/5/17. Est. Value—$425.00. Disposition—Transferred to NARA | Mrs. Nguyen Thi Hien, Spouse of the President of the Socialist Republic of Vietnam | Non-acceptance would cause embarrassment to donor and U.S. Government.
Mrs.Melania Trump, First Lady of the United States | Serving tray, rectangular, convex mahogany walls with rim simulating bamboo, 15″ x 24″, likely brass bottom depicting a bird known as “sarimanok”, having triple-lobe crest, dappled chest, symbolizing good fortune; in brown silk-clad presentation box. Rec'd 11/6/17. Est. Value—$440.00. Disposition—Transferred to NARA | Mrs. Cielito Avanceña, Spouse of the President of the Republic of the Philippines | Non-acceptance would cause embarrassment to donor and U.S. Government.
Mrs. Melania Trump, First Lady of the United States | Painting, by David Stanley Hewett, Kanazawa gold and acrylic on canvas, titled on the back “Majime”, signed and dated 2017, in the style of an earlier painting by Hewett titled “Bushido Legacy”, depicting gold-leaf squares with black specks traversed by one black band. Rec'd 11/6/17. Est. Value—$3,000.00. Disposition—Transferred to NARA | Mrs. Akie Abe, Spouse of the Prime Minister of Japan | Non-acceptance would cause embarrassment to donor and U.S. Government.
Mrs. Melania Trump, First Lady of the United States | Hanbok [traditional Korean garment], by Lee Young Hee, long sleeve, blue gauze with gray-banded pleats, embroidered silk sea plant forms in blues/white/black on sleeve ends, lower front panels, and skirt. Long-sleeve top = “jeogori”. Two ties = “goreum”. High skirt = “chima”. Rec'd 11/7/17. Est. Value—$1,040.00. Disposition—Transferred to NARA | Na Kyung-Won, the Republic of Korea National Assembly | Non-acceptance would cause embarrassment to donor and U.S. Government.
Mrs. Melania Trump, First Lady of the United States | Silk embroidered scene of 3 panda cubs near and on rockwork under bamboo, also 5 red leaves on ground, approx. 31″h x 19″w, matted and framed. Rec'd 11/8/17. Est. Value—$400.00. Disposition—Transferred to NARA | Madam Peng Liyuan, First Lady of the People's Republic of China | Non-acceptance would cause embarrassment to donor and U.S. Government.
First Family Children | Box, cloisonné, round, lidded, displaying bands of pink/light blue flowers on green or black serpentine leafy vines against medium blue background, knob on lid, medium blue enamel interior. Rec'd 4/7/17. Est. Value—$490.00. Disposition—Transferred to NARA | Madam Peng Liyuan, First Lady of the People's Republic of China | Non-acceptance would cause embarrassment to donor and U.S. Government.
First Family Grandchildren | Yellow gold, with butterfly pendant made of carved mother of pearl. Rec'd 2/1/17. Est. Value—$2,650.00. Disposition—Transferred to NARA | His Majesty King Abdullah II bin Al-Hussein and Queen Rania Al-Abdullah of the Hashemite Kingdom of Jordan | Non-acceptance would cause embarrassment to donor and U.S. Government.
First Family Grandchildren | Cigar box/humidor, light color woods plus edge bands with black diagonal stripe segments, 7-point silver-tone star keyhole escutcheon, hinged lid with centered 18-point star and side bands in mother-of-pearl, in box. Rec'd 4/11/17. Est. Value—$540.00. Disposition—Transferred to NARA | His Majesty King Abdullah II bin Al-Hussein of the Hashemite Kingdom of Jordan | Non-acceptance would cause embarrassment to donor and U.S. Government.
Ms. Ivanka Trump, Advisor to the President | Bespoke tiered dessert plate, fine porcelain made up of 6 plates, hand painted with classical Islamic motifs. Rec'd 2/1/17. Est. Value—$625.00. Disposition—Transferred to NARA | His Majesty Abdullah II bin Al-Hussein and Queen Rania Al-Abdullah of the Hashemite Kingdom of Jordan | Non-acceptance would cause embarrassment to donor and U.S. Government.
Ms. Ivanka Trump, Advisor to the President | Handbag, tagged “Bao Bao Issey Miyake”, style #BB71—AG501-41, black vinyl mesh rectangle covered in beige triangles forming squares, zippered top, one inside pocket, black metal shoulder chain, in paper scratch protector bag. Rec'd 2/10/17. Est. Value—$495.00. Disposition—Transferred to NARA | Mrs. Akie Abe, Spouse of the Prime Minister of Japan | Non-acceptance would cause embarrassment to donor and U.S. Government.
Ms. Ivanka Trump, Advisor to the President | Bracelet, cuff style, comprised of polished silver bird wings having 3 sections of different designs outlined and separated by gold bands, the medial portion fronted by a scarab beetle of matte finish silver and gold, in presentation box. Note standing stork stamp mark in brass near beetle head. Note silver stamp marks on bottom back of 2 dots over double curve [denoting Cairo] over “925” [denoting sterling grade silver] plus “G” clef. Rec'd 4/3/17. Est. Value—$630.00. Disposition—Transferred to NARA | His Excellency Abdel Fattah Al Sisi, President of the Arab Republic of Egypt | Non-acceptance would cause embarrassment to donor and U.S. Government.
Ms. Ivanka Trump, Advisor to the President | Jewelry set in gold plated sterling silver (stamped “925”) consisting of brooch plus earrings for pierced ears featuring yellow enameled flower plus real pearls and blue enameled leaves/ribbons, plus dangling white ovoid in gold-plated mount. Rec'd 4/7/17. Est. Value—$750.00. Disposition—Pending transfer to GSA | Madam Peng Liyuan, First Lady of the People's Republic of China | Non-acceptance would cause embarrassment to donor and U.S. Government.
Ms. Ivanka Trump, Advisor to the President | Jewelry Box: Box of silver-tone metal (likely brass) displaying silver filigree rosettes on lid and outside walls, the removable lid with centered rosette of real pearl surrounded by gold-tone petals with faux diamonds, in turn surrounded by blue enamel lappets, the rim edge band of mother-of-pearl peonies and foliated scrolls against navy blue, the rim outside edge ornamented with real pearls (4 larger, 20 smaller), the exterior walls displaying black and blue enameled wave motif. Rec'd 4/7/17. Est. Value—$1,200.00. Disposition—Transferred to NARA | Madam Peng Liyuan, First Lady of the People's Republic of China | Non-acceptance would cause embarrassment to donor and U.S. Government.
Ms. Ivanka Trump, Advisor to the President | Handbag of Belgian designer Delvaux—limited edition. Blue with a cloud design. The clip has a blue hat. Rec'd 4/24/17. Est. Value—$1,023.50. Disposition—Transferred to NARA | Ms. Amélie Derbaudrenghien, Partner of Prime Minister, Kingdom of Belgium | Non-acceptance would cause embarrassment to donor and U.S. Government.
Ms. Ivanka Trump, Advisor to the President | Garments: 3 white gauze-like “mardon” with sleeves covering hands, “bisht” with open front, orange flowers heads, yellow/pink leaves in silk on navy blue wool with Dormeuil navy blue lining, “bisht” with open front, orange/yellow/green tinted foliage on brown, “elegance international” brown lining; in presentation box. Rec'd 7/18/17. Est. Value—$700.00. Disposition—Transferred to NARA | His Royal Highness, Mohammad bin Salman bin Abdulaziz Al Saud Deputy Crown Prince of the Kingdom of Saudi Arabia | Non-acceptance would cause embarrassment to donor and U.S. Government.
Ms. Ivanka Trump, Advisor to the President | Pen, brand “Caran d'Ache Geneve”, silver-plated, rhodium-coated Varius Ivanhoe black ballpoint pen. Rec'd 7/18/17. Est. Value—$700.00. Disposition—Transferred to NARA | Swiss Federal Councilor | Non-acceptance would cause embarrassment to donor and U.S. Government.
Ms. Ivanka Trump, Advisor to the President | Fountain pen, by Pilot, black lacquer [“urushi”] with hand painted matte gold-tone 6-petal rosettes and green leaves, 14K gold nib, in wood presentation box. Rec'd 11/6/17. Est. Value—$1,180.00. Disposition—Transferred to NARA | His Excellency Taro Kono, Minister of Foreign Affairs of Japan | Non-acceptance would cause embarrassment to donor and U.S. Government.
Ms. Ivanka Trump, Advisor to the President | Jewelry set of pair earrings, brooch, and pendant, all in gold-plated sterling silver (each piece stamped “S925” on back), each featuring a centered reddish bead or roundel of beads against a rosette form of 3 tiers of filigree work, together in presentation box. Rec'd 11/8/17. Est. Value—$600.00. Disposition—Transferred to NARA | Madam Peng Liyuan, First Lady of the People's Republic of China | Non-acceptance would cause embarrassment to donor and U.S. Government.
Ms. Ivanka Trump, Advisor to the President | Golf club, putter, by Maruman, black handgrip with white hexagonal outlines plus red curves marked “WinnPro 1.32,” head engraved with U.S. flag to left of “K Sugi/KS-162PW” over “forged and CNC milling/Made in Japan/Manuman/Ivanka Marie Trump,” accompanied by black vinyl and black fleece-lined sock embroidered in silver-tone “K Sugi/forged and CNC milling,” in presentation box. Rec'd 11/13/17. Est. Value—$530.00. Disposition—Transferred to NARA | Ms. Satsuki Katayama, House of Councillors of Japan | Non-acceptance would cause embarrassment to donor and U.S. Government.
Mr. Jared Kushner, Assistant to the President and Senior Advisor to the President | Book, The Jews of Singapore Author: Joan Bieder. Rec'd 5/3/17. Est. Value—$575.00. Disposition—Pending transfer to GSA | His Excellency Vivian Balakrishnan, Minister for Foreign Affairs of the Republic of Singapore | Non-acceptance would cause embarrassment to donor and U.S. Government.
Mr. Jared Kushner, Assistant to the President and Senior Advisor to the President | Silver Chopard Pen. Rec'd 5/24/17. Est. Value—$750.00. Disposition—Pending transfer to GSA | Kingdom of Saudi Arabia | Non-acceptance would cause embarrassment to donor and U.S. Government.
Mr. Jared Kushner, Assistant to the President and Senior Advisor to the President | Fountain pen, named “the Petra Pen”, by Aurora, having 18K rose (cuprous) gold nib, finger grip section, plus portions of cap showing part of the façade of Petra, marked “Petra Aurora” on collar, in presentation box. Rec'd 6/26/17. Est. Value—$3,630.00. Disposition—Transferred to NARA | His Excellency Abdullah II bin Al-Hussein, King of the Hashemite Kingdom of Jordan | Non-acceptance would cause embarrassment to donor and U.S. Government.
Mr. Jared Kushner, Assistant to the President and Senior Advisor to the President | Assemblage of Saudi garments: 5 black double coil headbands “igals,” 5 round white caps with machined embroidery “tagiya,s” 2 head covers of red embroidery on white, head cover in pashmina-type wool, ecru head cover with brown/copper-tone/champagne-color silk embroidered botehs and bands, white cotton brocade head cover, in dark green leatherette carrying case. Rec'd 7/21/17. Est. Value—$600.00. Disposition—Transferred to NARA | His Royal Highness, Mohammad bin Salman bin Abdulaziz Al Saud Deputy Crown Prince of Saudi Arabia | Non-acceptance would cause embarrassment to donor and U.S. Government.
Mr. Jared Kushner, Assistant to the President and Senior Advisor to the President | Three robes, Saudi “bishts,” open front, displaying wide gold-tone band around opening near top: ecru, black, cinnamon in wide dark green leatherette carrying case. Rec'd 7/27/17. Est. Value—$520.00. Disposition—Transferred to NARA | His Royal Highness, Mohammad bin Salman bin Abdulaziz Al Saud Crown Prince of the Kingdom of Saudi Arabia | Non-acceptance would cause embarrassment to donor and U.S. Government.
Mr. Jared Kushner, Assistant to the President and Senior Advisor to the President | Macallan Rare cask black whiskey. Rec'd 11/28/17. Est. Value—$450.00. Disposition—Pending transfer to GSA | His Majesty Abdullah II bin Al-Hussein, King of the Hashemite Kingdom of Jordan | Non-acceptance would cause embarrassment to donor and U.S. Government.
The Honorable H.R. McMaster, Lieutenant General, United States Army, Assistant to the President for National Security Affairs | Rollerball pen, Mont Blanc Meisterstuck, glossy black shaft, cuprous-tone rings, in presentation box. Rec'd 3/8/17. Est. Value—$400.00. Disposition—Pending transfer to GSA | Mr. Mithal Al-Alusi, Member of Parliament, Iraq | Non-acceptance would cause embarrassment to donor and U.S. Government.
The Honorable H.R. McMaster, Lieutenant General, United States Army, Assistant to the President for National Security Affairs | Rug, Pakistani, silk pile, handwoven, center medallion style displaying centered 12-petal rosette within white cartouche plus 4 palmettes within navy blue cartouche filled with assorted flowers, on medium blue field with floral sprays continuing into navy blue spandrels, surrounded by 6 border bands of which the fourth predominates in floral swags tied by ribbons plus baskets of flowers against navy blue, also a band of rosettes at each end, 22 x 24 = 528 knots per square inch, 35-1/2″ x 59″ pile area, excluding fringe. Rec'd 4/4/17. Est. Value—$3,200.00. Disposition—APNSA's Office for Official Use | His Excellency Aizaz Ahmad Chaudhry, Ambassador of the Islamic Republic of Pakistan to the United States | Non-acceptance would cause embarrassment to donor and U.S. Government.
The Honorable H.R. McMaster, Lieutenant General, United States Army, Assistant to the President for National Security Affairs | Cufflinks, 18K yellow gold, depicting archer drawing arrow standing in horse-drawn chariot; 14.2 gram/pair, in presentation box. Rec'd 4/4/17. Est. Value—$780.00. Disposition—Pending transfer to GSA | His Excellency Abdel Fattah Al Sisi President of the Arab Republic of Egypt | Non-acceptance would cause embarrassment to donor and U.S. Government.
Mr. Avrahm Berkowitz, Deputy Assistant to the President and Advisor to the Senior Advisor | Assemblage of Saudi garments: 5 black double coil headbands [“igals”] 5 round white caps with machined embroidery [“tagiyas”]; 2 head covers of red embroidery on white; head cover in cashmere wool; ecru cashmere head cover with brown silk embroidered botehs and bands; white cotton brocade head cover; white cotton “voile” head cover marked as made in Switzerland for M. Siraj Attar & Brothers; in dark green leatherette carrying case. Rec'd 7/21/17. Est. Value—$640.00. Disposition—Pending transfer to GSA | His Royal Highness, Mohammad bin Salman bin Abdulaziz Al Saud Crown Prince of the Kingdom of Saudi Arabia | Non-acceptance would cause embarrassment to donor and U.S. Government.
Mr. Avrahm Berkowitz, Deputy Assistant to the President and Advisor to the Senior Advisor | Robes, Saudi “bishts,” three, open front, displaying wide gold-tone band around opening near top: ecru, black, cinnamon in wide dark green leatherette carrying case. Rec'd 7/27/17. Est. Value—$520.00. Disposition—Pending transfer to GSA | His Royal Highness, Mohammad bin Salman bin Abdulaziz Al Saud Crown Prince of the Kingdom of Saudi Arabia | Non-acceptance would cause embarrassment to donor and U.S. Government.

Agency: The Executive Office of the Vice President
[Report of Tangible Gifts Furnished by the Executive Office of the Vice President]
Name and title of person accepting the gift on behalf of the U.S. Government | Gift, date of acceptance on behalf of the U.S. Government, estimated value, and current disposition or location | Identity of foreign donor and government | Circumstances justifying acceptance
The Honorable Michael R. Pence, Vice President of the United States | Artwork, cast silver-tone metal miniature imagine of church, in black shadowbox frame in presentation box. Rec'd 2/18/17 Est. Value—$440.00. Disposition—Transferred to NARA | His Excellency Petro Poroshenko, President of Ukraine | Non-acceptance would cause embarrassment to donor and U.S. Government.
The Honorable Michael R. Pence, Vice President of the United States | Rug, Afghani, wool pile, hand woven. Rec'd 2/18/17 Est. Value—$3,200.00. Disposition—Transferred to NARA | His Excellency Dr. Mohammad Ashraf Ghani, President of the Islamic Republic of Afghanistan | Non-acceptance would cause embarrassment to donor and U.S. Government.
The Honorable Michael R. Pence, Vice President of the United States | Gavox Legacy Navy “Logical Stars” (Ref 358.5) Wristwatch, by Gavox of Belgium in a presentation box. Rec'd 2/19/2017 Est. Value—$392.00. Disposition—OVP Gift Office | His Excellency Charles Michel, Prime Minister of Belgium | Non-acceptance would cause embarrassment to donor and U.S. Government.
The Honorable Michael R. Pence, Vice President of the United States | Korean lidded jar, gray pottery, in wood presentation box. Rec'd 4/17/17. Est. Value—$540.00. Disposition—Transferred to NARA | His Excellency Sye-Kyun Chang, Speaker of the National Assembly, Republic of Korea | Non-acceptance would cause embarrassment to donor and U.S. Government.
The Honorable Michael R. Pence, Vice President of the United States | Jewelry set including a pearl necklace and pearl earrings together in presentation box. Rec'd 4/20/17. Est. Value—$425.00. Disposition—OVP Gift Office | His Excellency Joko Widodo & Mrs. Iriana Joko Widodo, President & First Lady of the Republic of Indonesia | Non-acceptance would cause embarrassment to donor and U.S. Government.
The Honorable Michael R. Pence, Vice President of the United States | Jewelry set including a white gold and pearl brooch and white gold and pearl earrings in wooden presentation box. Rec'd 4/20/17. Est. Value—$760.00. Disposition—OVP Gift Office | His Excellency Joko Widodo & Mrs. Iriana Joko Widodo, President & First Lady of the Republic of Indonesia | Non-acceptance would cause embarrassment to donor and U.S. Government.
The Honorable Michael R. Pence, Vice President of the United States | Porcelain statue depicting standing young female hand holding up bowl of flowers, in presentation box. Rec'd 4/20/17. Est. Value—$485.00. Disposition—OVP Gift Office | His Excellency Joko Widodo & Mrs. Iriana Joko Widodo, President & First Lady of the Republic of Indonesia | Non-acceptance would cause embarrassment to donor and U.S. Government.
The Honorable Michael R. Pence, Vice President of the United States | Box of two Montenegrin coins in clear plastic cases. Rec'd 6/5/17. Est. Value—$470.00. Disposition—OVP Gift Office | The Honorable Duško Marković, Prime Minister of Montenegro | Non-acceptance would cause embarrassment to donor and U.S. Government.
The Honorable Michael R. Pence, Vice President of the United States | Sculpture, by Zesus Zelaya, cast bronze, depicting barefoot female sitting with left leg curved under her, holding baby in right arm and bunch of flower in left, in wood presentation box. Rec'd 6/15/17. Est. Value—$430.00. Disposition—OVP Gift Office | His Excellency Juan Orlando Hernandez, President of the Republic of Honduras | Non-acceptance would cause embarrassment to donor and U.S. Government.
The Honorable Michael R. Pence, Vice President of the United States | Silver oil lamp and bowl set. Rec'd 6/26/17. Est. Value—$1,900.00. Disposition—OVP Gift Office | His Excellency Narendra Modi, Prime Minister of Republic of India | Non-acceptance would cause embarrassment to donor and U.S. Government.
The Honorable Michael R. Pence, Vice President of the United States | Painting depicting fortress atop an orange/green mound, smaller flat-top buildings in foreground, mounted in a wooden frame, in presentation box. Rec'd 6/29/17. Est. Value—$470.00. Disposition—Transferred to NARA | His Majesty King Abdullah II ibn Al Hussein, King of the Hashemite Kingdom of Jordan | Non-acceptance would cause embarrassment to donor and U.S. Government.
The Honorable Michael R. Pence, Vice President of the United States | Framed pastel, depicting groups of trees amid patches of snow, plus blue/green mountains in background. Rec'd 8/2/17. Est. Value—$1,480.00. Disposition—OVP Gift Office | His Excellency Filip Vujanović, President of Montenegro | Non-acceptance would cause embarrassment to donor and U.S. Government.
Mrs. Karen Pence, Second Lady of the United States | Clutch, sterling silver in presentation box. Rec'd 5/16/17. Est. Value—$400.00. Disposition—OVP Gift Office | Mrs. Emine Erdoğan, First Lady of the Republic of Turkey | Non-acceptance would cause embarrassment to donor and U.S. Government.
Mrs. Karen Pence, Second Lady of the United States | Yellow gold cross pendant in presentation box. Rec'd 7/31/17. Est. Value—$970.00. Disposition—OVP Gift Office | Mrs. Maia Kvirikashvili, Spouse of Prime Minister of Georgia | Non-acceptance would cause embarrassment to donor and U.S. Government.

Agency: The Department of State
[Report of Tangible Gifts Furnished by the Department of State]
Name and title of person accepting the gift on behalf of the U.S. Government | Gift, date of acceptance on behalf of the U.S. Government, estimated value, and current disposition or location | Identity of foreign donor and government | Circumstances justifying acceptance
The Honorable Rex W. Tillerson, Secretary of State of the United States | Gold plated horse on a green resin base. Rec'd 2/2/17. Est. Value—$785.00. Disposition—On Official Display at DOS | His Excellency Adel al-Jubeir, Minister of Foreign Affairs of the Kingdom of Saudi Arabia | Non-acceptance would cause embarrassment to donor and U.S. Government.
The Honorable Rex W. Tillerson, Secretary of State of the United States | Gold-plated model ship. Rec'd 2/14/17. Est. Value—$490.00. Disposition—On Official Display at DOS | His Excellency Sheikh Mohammed bin Abdulrahman Al Thani, Minister of Foreign Affairs of the State of Qatar | Non-acceptance would cause embarrassment to donor and U.S. Government.
The Honorable Rex W. Tillerson, Secretary of State of the United States | Gold-plated statue featuring two camels. Rec'd 2/22/17. Est. Value—$1,800.00. Disposition—On Official Display at DOS | His Excellency Adel al-Jubeir, Minister of Foreign Affairs of the Kingdom of Saudi Arabia | Non-acceptance would cause embarrassment to donor and U.S. Government.
The Honorable Rex W. Tillerson, Secretary of State of the United States | Silver Eagle Statue. Rec'd 3/13/17. Est. Value—$3,100.00. Disposition—On Official Display at DOS | His Excellency Adel al-Jubeir, Minister of Foreign Affairs of the Kingdom of Saudi Arabia | Non-acceptance would cause embarrassment to donor and U.S. Government.
The Honorable Rex W. Tillerson, Secretary of State of the United States | Book, Image in Stone Tunisia in Mosiac. Rec'd 3/13/17. Est. Value—$450.00. Disposition—Transferred to GSA | His Excellency Khemaies Jhinaoui, Minister of Foreign Affairs of the Republic of Tunisia | Non-acceptance would cause embarrassment to donor and U.S. Government.
The Honorable Rex W. Tillerson, Secretary of State of the United States | Book about Sheikh Zayed Grand Mosque and large pink, blue, and olive green carpet. Rec'd 3/14/17. Est. Value—$5,360.00. Disposition—On Official Display at DOS | His Highness Sheikh Abdullah bin Zayed Al Nanyan, Minister of Foreign Affairs of the United Arab Emirates | Non-acceptance would cause embarrassment to donor and U.S. Government.
The Honorable Rex W. Tillerson, Secretary of State of the United States | Green glass vase with lid. Rec'd 3/30/17. Est. Value—$450.00. Disposition—On Official Display at DOS | His Excellency Mevlüt Cavuşoğlu, Minister of Foreign Affairs of the Republic of Turkey | Non-acceptance would cause embarrassment to donor and U.S. Government.
The Honorable Rex W. Tillerson, Secretary of State of the United States | Porcelain vase with black and red floral motif on a wooden stand. Rec'd 4/7/17. Est. Value—$400.00. Disposition—Pending transfer to GSA | His Excellency Xi Jinping, President of the People's Republic of China | Non-acceptance would cause embarrassment to donor and U.S. Government.
The Honorable Rex W. Tillerson, Secretary of State of the United States | Large ceramic vase with floral pattern in presentation box. Rec'd 4/20/17. Est. Value—$470.00. Disposition—On Official Display at DOS | His Excellency Pham Binh Minh, Prime Minister of the Socialist Republic of Vietnam | Non-acceptance would cause embarrassment to donor and U.S. Government.
The Honorable Rex W. Tillerson, Secretary of State of the United States | Sterling silver bowl with floral repousse design. Rec'd 5/4/17. Est. Value—$430.00. Disposition—On Official Display at DOS | His Excellency Prak Sokhonn, Senior Minister and Minister of Foreign Affairs and International Cooperation of the Kingdom of Cambodia | Non-acceptance would cause embarrassment to donor and U.S. Government.
The Honorable Rex W. Tillerson, Secretary of State of the United States | Gold-plated model ship. Rec'd 5/9/17. Est. Value—$420.00. Disposition—On Official Display at DOS | His Excellency Sheikh Mohammed bin Abdulrahman bin Jassim Al Thani Minister of Foreign Affairs of the State of Qatar | The Honorable Rex W. Tillerson, Secretary of State of the United States
The Honorable Rex W. Tillerson, Secretary of State of the United States | Book, Deutschland um 1900, Marshall Plan framed print, bottle of German Whisky, two Meissen crystal floral glasses. Rec'd 5/17/17. Est. Value—$682.00. Disposition—On Official Display at DOS | His Excellency Sigmar Gabriel, Minister of Foreign Affairs of the Federal Republic of Germany | Non-acceptance would cause embarrassment to donor and U.S. Government.
The Honorable Rex W. Tillerson, Secretary of State of the United States | Bronze figurine “La Florista” in wooden box. Rec'd 6/15/17. Est. Value—$760.00. Disposition—On Official Display at DOS | His Excellency Juan Orlando Hernandez, President of the Republic of Honduras | Non-acceptance would cause embarrassment to donor and U.S. Government.
The Honorable Rex W. Tillerson, Secretary of State of the United States | White and blue porcelain vase with wooden stand in presentation box. Rec'd 6/21/17. Est. Value—$440.00. Disposition—On Official Display at DOS | His Excellency Yang Jiechi, State Councilor of the People's Republic of China | Non-acceptance would cause embarrassment to donor and U.S. Government.
The Honorable Rex W. Tillerson, Secretary of State of the United States | Hand-made marble box inlaid with semi-precious stone featuring flowers on lid. Rec'd 6/25/17. Est. Value—$500.00. Disposition—On Official Display at DOS | His Excellency Narendra Modi, Prime Minister of the Republic of India | Non-acceptance would cause embarrassment to donor and U.S. Government.
The Honorable Rex W. Tillerson, Secretary of State of the United States | Turkish coffee service set, Turkish delight, and black leather briefcase. Rec'd 7/10/17. Est. Value—$490.00. Disposition—Transferred to GSA | His Excellency Berat Albayrak, Minister of Energy and Natural Resources of the Republic of Turkey | Non-acceptance would cause embarrassment to donor and U.S. Government.
The Honorable Rex W. Tillerson, Secretary of State of the United States | Pewter teapot, sugar, and milk set with pewter and wood tray in presentation box. Rec'd 8/23/17. Est. Value—460.00. Disposition—Transferred to GSA | His Excellency Dato' Seri Dr. Ahmad Zahid Hamidi, Deputy Prime Minister and Minister of Home Affairs of Malaysia | Non-acceptance would cause embarrassment to donor and U.S. Government.
The Honorable Rex W. Tillerson, Secretary of State of the United States | Large purple, gold, and green carpet. Rec'd 9/27/17. Est. Value—$2,600.00. Disposition—Transferred to GSA | His Excellency Shavkat Miromonovich Mirziyaev, Prime Minister of the Republic of Uzbekistan | Non-acceptance would cause embarrassment to donor and U.S. Government.
The Honorable Rex W. Tillerson, Secretary of State of the United States | Large wooden chest with brass detailing, black and gold. Rec'd 10/6/17. Est. Value—$750.00. Disposition—Transferred to GSA | His Excellency Sheikh Sabah Khaled al-Sabah, First Deputy Prime Minister and Minister of Foreign Affairs of the State of Kuwait | Non-acceptance would cause embarrassment to donor and U.S. Government.
The Honorable Rex W. Tillerson, Secretary of State of the United States | Framed painting titled “White Poppies”. Rec'd 12/15/17. Est. Value—$600.00. Disposition—On Official Display at DOS | His Excellency Elin Suleymanov, Ambassador of the Republic of Azerbaijan to the United States | Non-acceptance would cause embarrassment to donor and U.S. Government.
The Honorable John Sullivan, Deputy Secretary of State | Framed embroidery of eagle descending in flight. Rec'd 10/4/17. Est. Value—$600.00. Disposition—Transferred to GSA | His Excellency Guo Shengkun, State Councilor of the People's Republic of China | Non-acceptance would cause embarrassment to donor and U.S. Government.
The Honorable Lisa J. Peterson, Ambassador of the United States to Swaziland | Matching ring and earring set, “Her Golden Secret” perfume by Antonio Banderas, “Sapphire” perfume by Al-Battash Luxury. Rec'd 6/21/17. Est. Value—$1,714.00. Disposition—Transferred to GSA | His Excellency Yousef bin Mohammed Al- Mahmoud, Ambassador of the State of Qatar to the United States | Non-acceptance would cause embarrassment to donor and U.S. Government.
The Honorable Thomas A. Shannon, Under Secretary for Political Affairs | Hand-made Persian rug. Rec'd 1/31/17. Est. Value—$950.00. Disposition—Purchased from GSA by recipient | His Excellency Salahuddin Rabbani, Minister of Foreign Affairs of the Islamic Republic of Afghanistan | Non-acceptance would cause embarrassment to donor and U.S. Government.
Mr. Patrick Murphy, Deputy Assistant Secretary | Male tais (cloth) with silver metal chest plate, silver metal head piece, feather head piece, coral necklace, silver metal bracelet, female tais (skirt), with silver metal head piece, silver metal bracelet, coral necklace, and small silver chest ornament. Rec'd 5/20/17. Est. Value—$2,415.00. Disposition—Transferred to GSA | His Excellency Dr. Francisco Gueterres Lu Olo, President of the Democratic Republic of Timor-Leste | Non-acceptance would cause embarrassment to donor and U.S. Government.
Mrs. Micheline Tusenius, Spouse of Ambassador Allen | Ferragamo purse. Rec'd 10/10/17. Est. Value—$2,500.00. Disposition—Transferred to GSA | His Majesty Sultan Haji Hassanal Bolkiah, Sultan of Brunei Darussalam | Non-acceptance would cause embarrassment to donor and U.S. Government.
Mr. Timothy Ponce, Consular Section Chief | Decorative Kuwaiti sword. Rec'd 6/7/17. Est. Value—$440.00. Disposition—Transferred to GSA | Mr. Ibdah Al Dossari, Deputy Director for Consular Affairs for the State of Kuwait | Non-acceptance would cause embarrassment to donor and U.S. Government.
Ms. Anya Brunson, Economic Officer | Vyshyvanka dress. Rec'd 11/24/17. Est. Value—$1,470.00. Disposition—Transferred to GSA | Yurity Vitrenko, Chief Commercial Officer of Naftogaz | Non-acceptance would cause embarrassment to donor and U.S. Government.
Ms. Penny Price, Protocol Officer | Large afghan wool rug. Rec'd 10/5/17. Est. Value—$6,600.00. Disposition—Transferred to GSA | Afghan Protocol | Non-acceptance would cause embarrassment to donor and U.S. Government.
Ms. Lika Johnston, Protocol Officer | Rolex Watch. Rec'd 7/24/17. Est. Value—$4,790.00. Disposition—Transferred to GSA | Mr. Joseph Joureih, Protocol Director of the Qatar United Nations Mission | Non-acceptance would cause embarrassment to donor and U.S. Government.

Agency: The Administrative Office of the United States Courts
[Report of Gifts of Travel Furnished by the Administrative Office of the United States Courts]
Name and title of person accepting the gift on behalf of the U.S. Government | Gift, date of acceptance on behalf of the U.S. Government, estimated value, and current disposition or location | Identity of foreign donor and government | Circumstances justifying acceptance
The Honorable Peter J. Messitte, Senior District Judge, United States District Court for the District of Maryland | TRAVEL: Airfare, and three nights of lodging. Rec'd 12/12/17. Est. Value—$734.00 | Federal Regional Tribunal Center for Judicial Studies, Council of Federal Justice of the Federative Republic of Brazil | Non-acceptance would cause embarrassment to donor and U.S. Government.
The Honorable Jeremy D. Fogel, Director of the Federal Judicial Center | TRAVEL: Train ticket, lodging, and rental car in Vienna, Austria. Rec'd 8/28/17-8/29/17. Est. Value—$1,000.00 | United Nations Office on Drugs and Crime | Non-acceptance would cause embarrassment to donor and U.S. Government.
Mr. Jeffrey P. Minear, Counselor to the Chief Justice, Supreme Court of the United States | TRAVEL: Airfare, and three nights of lodging. Rec'd 10/28/17-11/13/17. Est. Value—$1,162.31 | Judiciary of the Republic of Namibia | Non-acceptance would cause embarrassment to donor and U.S. Government.
Spouse of Staff Attorney Megan Scanlon, United States Court of Appeals for the Fourth Circuit | TRAVEL: Ground transportation, lodging, and meals. Rec'd 11/7/17-11/9/17. Est. Value—$432.53 | Queen's University, Kingston, Ontario, Canada | Non-acceptance would cause embarrassment to donor and U.S. Government.

Agency: Board of Governors of the Federal Reserve System
[Report of Tangible Gifts Furnished by the Federal Reserve System]
Name and title of person accepting the gift on behalf of the U.S. Government | Gift, date of acceptance on behalf of the U.S. Government, estimated value, and current disposition or location | Identity of foreign donor and government | Circumstances justifying acceptance
The Honorable Janet Yellen, (Former) Chair of the Board of Governors of the Federal Reserve System | Amber colored pendant necklace with amber colored beading, measures approximately 18 inches. Rec'd 4/3/17. Est. Value—$400.00. Disposition—In possession of Board's Management Division, pending | His Excellency Mr. Mateusz Morawiecki, Deputy Prime Minister of the Republic of Poland | Non-acceptance would cause embarrassment to donor and U.S. Government.

Agency: Central Intelligence Agency
[Report of Tangible Gifts Furnished by the Central Intelligence Agency]
Name and title of person accepting the gift on behalf of the U.S. Government | Gift, date of acceptance on behalf of the U.S. Government, estimated value, and current disposition or location | Identity of foreign donor and government | Circumstances justifying acceptance
The Honorable Michael R. Pompeo, Director of the CIA | Six bottles of Amouge cologne. Rec'd 3/7/2017 Est. Value—$500.00. Disposition—Pending transfer to GSA | 5 U.S.C. 7342(f)(4) | Non-acceptance would cause embarrassment to donor and U.S. Government.
The Honorable Michael R. Pompeo, Director of the CIA | White, gold, and mint vase. Rec'd 2/9/2017. Est. Value—$500.00. Disposition—Pending transfer to GSA | 5 U.S.C. 7342(f)(4) | Non-acceptance would cause embarrassment to donor and U.S. Government.
The Honorable Michael R. Pompeo, Director of the CIA | 18k gold box. Rec'd 6/13/2017. Est. Value—$20,000.00. Disposition—Pending transfer to GSA | 5 U.S.C. 7342(f)(4) | Non-acceptance would cause embarrassment to donor and U.S. Government.
The Honorable Gina C. Haspel, Deputy Director of the CIA | Knife in wooden box. Rec'd 11/15/2017. Est. Value—$500.00. Disposition—Pending transfer to GSA | 5 U.S.C. 7342(f)(4) | Non-acceptance would cause embarrassment to donor and U.S. Government.
An Agency Employee | Santa Barbara Flintlock pistol-caliber 61. Rec'd 11/15/2017. Est. Value—$500.00. Disposition—Pending transfer to GSA | 5 U.S.C. 7342(f)(4) | Non-acceptance would cause embarrassment to donor and U.S. Government.
An Agency Employee | Leather briefcase. Rec'd 6/1/2017. Est. Value—$582.00. Disposition—Pending transfer to GSA | 5 U.S.C. 7342(f)(4) | Non-acceptance would cause embarrassment to donor and U.S. Government.
An Agency Employee | Hubolt watch. Rec'd 2/6/2017. Est. Value—$1,000.00. Disposition—Pending transfer to GSA | 5 U.S.C. 7342(f)(4) | Non-acceptance would cause embarrassment to donor and U.S. Government.
An Agency Employee | Silk rug. Rec'd 10/5/2017. Est. Value—$400.00. Disposition—Pending transfer to GSA | 5 U.S.C. 7342(f)(4) | Non-acceptance would cause embarrassment to donor and U.S. Government.
An Agency Employee | His/Hers Movado watches. Rec'd 10/10/2017. Est. Value—$1,200.00. Disposition—Pending transfer to GSA | 5 U.S.C. 7342(f)(4) | Non-acceptance would cause embarrassment to donor and U.S. Government.
An Agency Employee | Charriol woman's silver watch. Rec'd 5/12/2017. Est. Value—$716.00. Disposition—Pending transfer to GSA | 5 U.S.C. 7342(f)(4) | Non-acceptance would cause embarrassment to donor and U.S. Government.
An Agency Employee | Omega Swiss Seamaster watch. Rec'd 1/29/2013. Est. Value—$2,000.00. Disposition—Pending transfer to GSA | 5 U.S.C. 7342(f)(4) | Non-acceptance would cause embarrassment to donor and U.S. Government.
An Agency Employee | Breitling Colt Swiss watch. Rec'd 8/5/2015. Est. Value—$1,500.00. Disposition—Pending transfer to GSA | 5 U.S.C. 7342(f)(4) | Non-acceptance would cause embarrassment to donor and U.S. Government.
An Agency Employee | International watch company Portofino watch. Rec'd 5/23/2017. Est. Value—$3,000.00. Disposition—Pending transfer to GSA | 5 U.S.C. 7342(f)(4) | Non-acceptance would cause embarrassment to donor and U.S. Government.
An Agency Employee | Longines Men and Women's watch. Rec'd 6/20/2017. Est. Value—$3,000.00. Disposition—Pending transfer to GSA | 5 U.S.C. 7342(f)(4) | Non-acceptance would cause embarrassment to donor and U.S. Government.
An Agency Employee | Breitling wrist watch. Rec'd 3/19/2017. Est. Value—$1,500.00. Disposition—Pending transfer to GSA | 5 U.S.C. 7342(f)(4) | Non-acceptance would cause embarrassment to donor and U.S. Government.
An Agency Employee | Breitling wrist aerospace limited edition watch. Rec'd 3/19/2017. Est. Value—$1,000.00 Disposition—Pending transfer to GSA | 5 U.S.C. 7342(f)(4) | Non-acceptance would cause embarrassment to donor and U.S. Government.
An Agency Employee | Brietling Colt Swiss watch. Rec'd 3/19/2017. Est. Value—$1,500.00. Disposition—Pending transfer to GSA | 5 U.S.C. 7342(f)(4) | Non-acceptance would cause embarrassment to donor and U.S. Government.
An Agency Employee | Earrings/bracelet jewelry sets, candlesticks, artwork, cufflinks. Rec'd 6/1/2017. Est. Value—$605.00. Disposition—Pending transfer to GSA | 5 U.S.C. 7342(f)(4) | Non-acceptance would cause embarrassment to donor and U.S. Government.
An Agency Employee | 26 year old whisky. Rec'd 8/1/2017. Est. Value—$575.00. Disposition—Pending transfer to GSA | 5 U.S.C. 7342(f)(4) | Non-acceptance would cause embarrassment to donor and U.S. Government.

Agency: The Department of Army
[Report of Tangible Gifts Furnished by the Department of Army]
Name and title of person accepting the gift on behalf of the U.S. Government | Gift, date of acceptance on behalf of the U.S. Government, estimated value, and current disposition or location | Identity of foreign donor and government | Circumstances justifying acceptance
Brigadier General Lee Henry, Commander, Resolute Support Train, Advise, Assist Command—South Kandahar Airfield, Afghanistan | Afghan rug. Rec'd 1/2/17. Est. Value—$1,286.00. Disposition—Transferred to GSA | Brigadier General Gulalai, 205th Corps Garrison Commander, Afghan National Army | Non-acceptance would cause embarrassment to donor and U.S. Government.
General Joseph Votel, Commander, US Army Central Command | Apple iPhone 7. Rec'd 1/17/17. Est. Value—$649.00. Disposition—Bldg. 1458, Room 2SE 4708, Awaiting GSA Turn-in 14 Feb 18 | Major General Hamad Bin-Ali, Qatar Chief of Staff Armed Forces | Non-acceptance would cause embarrassment to donor and U.S. Government.
General Joseph Votel, Commander, US Army Central Command | Baron Philippe Men's Watch. Rec'd 1/17/17. Est. Value—$750.00. Disposition—Bldg. 1458, Room 2SE 4708, Awaiting GSA Turn-in 14 Feb 18 | Major General Hamad Bin-Ali, Qatar Chief of Staff Armed Forces | Non-acceptance would cause embarrassment to donor and U.S. Government.
Lieutenant Colonel Stephen Douglas, Commander, Combined Task Force Rakk Solid, 3rd Brigade Combat Team, 101st Airborne Division | Afghan rug. Rec'd 3/11/17. Est. Value—$799.33. Disposition—Purchased by recipient | Brigadier General Gulalai, 205th Corps Garrison Commander, Afghan National Army | Non-acceptance would cause embarrassment to donor and U.S. Government.
General Joseph Votel, Commander, US Army Central Command | 18K gold cartouche (Michelle). Rec'd 3/17/17. Est. Value—$550.00. Disposition—Bldg. 1458, Room 2SE 4708, Awaiting GSA Turn-in 14 Feb 18 | Mrs. Hegazi, Spouse of General Mahmoud Hegazy, Chief of Staff of the Egyptian Armed Forces | Non-acceptance would cause embarrassment to donor and U.S. Government.
General Mark A. Miley, Chief of Staff of the Army, U.S. Forces Command | TAG Heuer Men's WAZ211A.BA0875 Formula 1 Analog Display Swiss automatic silver watch. Rec'd 3/31/17. Est. Value—$1,239.00. Disposition—Transferred to GSA | Major General Saleh Mohammed Saleh Al- Ameri, United Arab Emirates Land Forces | Non-acceptance would cause embarrassment to donor and U.S. Government.
Brigadier General John B. Richardson, IV, Deputy Commander, Combined Joint Forces Land Component Command | Watch, men Tissot T-Touch Expert. Rec'd 4/29/17. Est. Value—$703.00. Disposition—Transferred to GSA | President Masoud Barzani of Kurdistan Regional Government, Iraq | Non-acceptance would cause embarrassment to donor and U.S. Government.
Major General William B. Hickman, Deputy Commanding General, U.S. Army Central Command | Johann Strauss Edition Montblanc pen and ink set. Rec'd 5/22/17. Est. Value—$816.50. Disposition—Bldg. 1458, Room 2SE 4708, Awaiting GSA Turn-in 14 Feb 18 | Major General Khalid, Saleh Al-Sabah, Kuwait Land Forces, Commander | Non-acceptance would cause embarrassment to donor and U.S. Government.
Major General William B. Hickman, Deputy Commanding General, U.S. Army Central Command | 800 Series Movado men's watch, stainless steel. Rec'd 5/24/17. Est. Value—$1,195.00. Disposition—Bldg. 1458, Room 2SE 4708, Awaiting GSA Turn-in 14 Feb 18 | Major General Saeed, Mabkhoot Louteya Al Ameri, United Arab Emirates Land Forces, Commander | Non-acceptance would cause embarrassment to donor and U.S. Government.
Major General William B. Hickman, Deputy Commanding General, U.S. Army Central Command | Knife/bayonet set. Rec'd 5/24/17. Est. Value—$518.99. Disposition—Bldg. 1458, Room 2SE 4708, Awaiting GSA Turn-in 14 Feb 18 | Major General Saeed, Mabkhoot Louteya Al Ameri, United Arab Emirates Land Forces, Commander | Non-acceptance would cause embarrassment to donor and U.S. Government.

Agency: The Department of Defense
[Report of Tangible Gifts Furnished by the Department of Defense]
Name and title of person accepting the gift on behalf of the U.S. Government | Gift, date of acceptance on behalf of the U.S. Government, estimated value, and current disposition or location | Identity of foreign donor and government | Circumstances justifying acceptance
The Honorable Ashton B. Carter, Secretary of Defense | Rug, Afghan, wool, hand woven. Rec'd 12/9/16. Est. Value—$3,200.00. Disposition—Item on Display—Pentagon 3E1010 | His Excellency Dr. Mohammad Ashraf Ghani, President of the Islamic Republic of Afghanistan | Non-acceptance would cause embarrassment to donor and U.S. Government.
Spouse of Ashton B. Carter, Secretary of Defense | Table linen set, white cotton linen with champagne-color and silver tone abstract of rosettes. Table cloth with 12 napkins. Rec'd 12/19/16. Est. Value—$385.00. Disposition—OSD Locker, Pentagon 3B954A | His Excellency Dr. Mohammad Ashraf Ghani, President of the Islamic Republic of Afghanistan and Spouse | Non-acceptance would cause embarrassment to donor and U.S. Government.
The Honorable James Mattis, Secretary of Defense | Round porcelain plate in presentation box and coffee pot by Cauba in black leather-clad presentation box. Rec'd 4/13/17. Est. Value—$680.00. Disposition—Plate in WHS Gift Locker, MF739A and Coffee pot in OSD Locker, 3B954A | His Excellency Fikri Işık, Minister of National Defense of the Republic of Turkey | Non-acceptance would cause embarrassment to donor and U.S. Government.
The Honorable James Mattis, Secretary of Defense | Sword with Medusa head hilt in presentation case. Rec'd 4/20/17. Est. Value—$440.00. Disposition—OSD Locker, Pentagon 3B954A | His Excellency Panos Kammenos, Minister of National Defense of the Hellenic Republic | Non-acceptance would cause embarrassment to donor and U.S. Government.
The Honorable James Mattis, Secretary of Defense | Saber, accompanied by scabbard clad in reptile skin plus gilt mounts and gilt tassels, in white fabric bag and statue, depicting silver clad resin falcon with gilt beak, legs wrapped in bands. Rec'd 4/22/17. Est. Value—$7,600.00. Disposition—OSD Vault | Major General (Ret) Hamad Bin Ali Al-Attiyah, Advisor of the Amir for Defense Affairs State of Qatar | Non-acceptance would cause embarrassment to donor and U.S. Government.
The Honorable James Mattis, Secretary of Defense | Presentation item, black plastic forms including a quarter-round fronted by gold-tone panel stating “Presented with Appreciation by Gen. Sedky Sobhy . . .” fronting rectangle with gold-tone/silver-tone military emblem over “Egyptian Armed Forces”, both set into 2-tiered base and sword, handle displaying Chinese-style cartouches of serpents/flowers, handgrip in fish scale motif, in presentation case. Rec'd 4/24/17. Est. Value—$1,075.00. Disposition—WHS Gift Locker | General Sedky Sobhy, Commander and Chief of the Armed Forces of the Arab Republic of Egypt | Non-acceptance would cause embarrassment to donor and U.S. Government.
The Honorable James Mattis, Secretary of Defense | Saffron, Spanish, 96 boxes of 2 grams each, “Azafran Guerrero Munoz.” Rec'd 4/24/17. Est. Value—$1,344.00. Disposition—OSD Vault | Lieutenant Fahad Abdulrahman Al-Thani, Aide to the Minister of Defense, State of Qatar | Non-acceptance would cause embarrassment to donor and U.S. Government.
The Honorable James Mattis, Secretary of Defense | Round brass bowl clad in lapis lazuli panels and saffron, approximately .2 kilograms/200 grams. Rec'd 4/24/17. Est. Value—$2,185.00. Disposition—OSD Vault | His Excellency Dr. Mohammad Ashraf Ghani, President of the Islamic Republic of Afghanistan | Non-acceptance would cause embarrassment to donor and U.S. Government.
The Honorable James Mattis, Secretary of Defense | Artwork, consisting of white Corian slab, displaying geometric forms of lines, stepped squares, brackets, bars in brass, some incised forms filled with brass tube segments, in custom-designed presentation box. Rec'd 5/16/17. Est. Value—$1,650.00. Disposition—OSD Vault | His Royal Highness Mohamed bin Zayed Al Nahyan, Crown Prince of Abu Dhabi and Deputy Supreme Commander of the United Arab Emirates Armed Forces | Non-acceptance would cause embarrassment to donor and U.S. Government.
The Honorable James Mattis, Secretary of Defense | Painting, acrylic on canvas, depicting 8 people walking closely together, of which 3 wearing hats and 5 carrying baskets of fruit, against white background, framed. Rec'd 5/17/17. Est. Value—$950.00. Disposition—WHS Gift Locker | His Excellency Joao Lourenco, Minister of National Defense of the Republic of Angola | Non-acceptance would cause embarrassment to donor and U.S. Government.
The Honorable James Mattis, Secretary of Defense | White marble box decorated with lapis lazuli flowers in presentation box. Rec'd 6/26/17. Est. Value—$1,000.00. Disposition—OSD Vault | His Excellency Narendra Modi, Prime Minister of India | Non-acceptance would cause embarrassment to donor and U.S. Government.
The Honorable James Mattis, Secretary of Defense | Wristwatch and assault rifle, “FORT-224” made by Ukrainian Science-Industrial entity called “FORT”, black with left side marked “00PT 224” beneath serial number 44803807, right side with applied gold-tone anchor/wings, clip inside marked “5.45 x 39/44803807”, alligator handgrip, black nylon strap; accompanied by honey comb sight marked “MEPRO21M Reflex” in black cover, in black nylon case, embroidered “MEPROUGHT”, second sight marked “MX3, marked “M-FOR”, 3 curved bullet clips of which 2 fully loaded, in khaki color nylon case, tan nylon carrying bag. Rec'd 8/23/17. Est. Value—$3,780.00. Disposition—OSD Value | His Excellency Petro Poroshenko, President of Ukraine | Non-acceptance would cause embarrassment to donor and U.S. Government.
The Honorable James Mattis, Secretary of Defense | Bottle of “Tequila Reserva de la Familia Extra Anejo 100% de Agave Jose Cuervo Hecho en Mexico”, bottled 17-VIII-17, 750 ml, in wood presentation box, a plaque, pressboard rectangle fronted by gold-tone plastic Mexican emblem beneath 2 crescents, short sword, labeled as “ceremonial sword of the Mexican Army's Military Academy”, medallion, gilt bronze roundel, “fiestas Patrias/Estados Unidos Mexicanos”, and wooden chess set. Rec'd 9/15/17. Est. Value—$825.00. Disposition—OSD Vault | Division General Salvador Cienfuegos Zepeda, Secretary of National Defense of the United Mexican States | Non-acceptance would cause embarrassment to donor and U.S. Government.
The Honorable James Mattis, Secretary of Defense | Rug, Afghani, wool pile, hand woven. Rec'd 9/26/17. Est. Value—$2,200.00. Disposition—OSD Vault | His Excellency Dr. Mohammad Ashraf Ghani, President of the Islamic Republic of Afghanistan | Non-acceptance would cause embarrassment to donor and U.S. Government.
The Honorable James Mattis, Secretary of Defense | Print copy of an original site plan of the 1779 Siege of Savannah, Georgia, in double mat and molded frame and tray, silver-tone, rectangular with chamfered comers incised “La Ministre des Armees de la Republique Francaise”, in presentation box. Rec'd 10/20/17. Est. Value—$440.00. Disposition—OSD Vault | Her Excellency Florence Parly, Minister of the Armed Forces of the French Republic | Non-acceptance would cause embarrassment to donor and U.S. Government.
The Honorable James Mattis, Secretary of Defense | Peacock in silver filigree surrounding oval green cabochon, attached to filigree ovoid secured to base clad in navy blue velvet-like fabric covered by clear plastic base, in presentation box. Rec'd 10/25/17. Est. Value—$430.00. Disposition—OSD Vault | Her Excellency Nirmala Sitharaman, Minister of Defense of the Republic of India | Non-acceptance would cause embarrassment to donor and U.S. Government.
The Honorable James Mattis, Secretary of Defense | Sword, 38″ long, polished steel blade marked to Secretary Mattis from Song Youngmoo dated “27 October 2017”, black lacquer handle with silver string inlay, tied with purple tassel, accompanied by scabbard clad in shagreen (Stingray skin) plus black lacquer with gilt metal mounts, tied with 2 conjoined tassels, together in presentation/carrying case and set of 3 arrows. Rec'd 10/27/17. Est. Value—$2,190.00. Disposition—OSD Vault | His Excellency Song Young-Moo, Ministry of National Defense of the Republic of Korea | Non-acceptance would cause embarrassment to donor and U.S. Government.
The Honorable James Mattis, Secretary of Defense | Pistol, replica flint lock having walnut stock, metal parts blackened and ornamented with brass floral inlay, 15″1, in walnut presentation box and printed photographic page titled “Khevsurians” Appeal to the US President, which Reached its Recipient only 70 Years Later” with photographic image of 2 handwritten sheets, frame. Rec'd 11/13/17. Est. Value—$510.00. Disposition—OSD Vault | His Excellency Levan Izoria, Minister of Defense of Georgia | Non-acceptance would cause embarrassment to donor and U.S. Government.
The Honorable James Mattis, Secretary of Defense | Chariot and horses made of clear cut crystal plus gold-tone metal, archer holding up bow and arrow aimed over 2 rearing horses, glued to rectangular mirrored base, in presentation box and plaque, stating “Egyptian Armed Forces”. Rec'd 12/2/17. Est. Value—$470.00. Disposition—OSD Vault | General Sedky Sobhy, Commander and Chief of the Armed Forces of the Arab Republic of Egypt | Non-acceptance would cause embarrassment to donor and U.S. Government.
The Honorable Robert O. Work, Deputy Secretary of Defense | Lalique dish with lid. Rec'd 6/18/17. Est. Value—$585.00. Disposition—WHS Gift Locker | Foreign Government Official | Non-acceptance would cause embarrassment to donor and U.S. Government.
General Joseph Dunford, Jr., Chairman of the Joint Chiefs of Staff | Figurine, silver-plated falcon with gold-washed beak perched on hand glove. Rec'd 11/9/2016. Est. Value—$495.00. Disposition—Item on Display—Joint Chiefs of Staff Office, Pentagon 2E873 | General Abdul-Rahman bin Saleh bin Abdullah al-Banyan, Chief of the General Staff, Saudi Armed Forces | Non-acceptance would cause embarrassment to donor and U.S. Government.
General Joseph Dunford, Jr., Chairman of the Joint Chiefs of Staff | Hand-woven silk pile rug, glass round plate depicting centered shield emblem in red/blue/green dated 1918, and tea set accompanied by silver spoon in plastic presentation box. Rec'd 2/16/17. Est. Value—$920.00. Disposition—Joint Chiefs of Staff Gift Locker, Pentagon 2E873 | Colonel General Zakir Hasanov, Minister of Defense of the Republic of Azerbaijan | Non-acceptance would cause embarrassment to donor and U.S. Government.
General Joseph Dunford, Jr., Chairman of the Joint Chiefs of Staff | Set of 16 round medallions, brass-tone, each displaying a bust picture of a male military person, together in presentation box and picture, depicting St. Basil's Church plus portion of the Kremlin wall in Moscow, framed, in black vinyl presentation box. Rec'd 2/16/17. Est. Value—$400.00. Disposition—Item on Display, Pentagon 2E878 | General Valery Gerasimov, Chief of the General Staff of the Armed Forces of the Russian Federation and First Deputy Minister of Defense of the Russian Federation | Non-acceptance would cause embarrassment to donor and U.S. Government.
General Joseph Dunford, Jr., Chairman of the Joint Chiefs of Staff | Two photographs in silver frames. Rec'd 3/8/17. Est. Value $430.00. Disposition—Item on Display, Pentagon 2E878 | General Hulusi Akar, Chief of Defense of Turkish General Staff of the Republic of Turkey | Non-acceptance would cause embarrassment to donor and U.S. Government.
General Joseph Dunford, Jr., Chairman of the Joint Chiefs of Staff | Box, by Boisseliers du Rif of Lebanon, square, mixed woods, lid displaying Lebanese flag, first tier partitioned into 5 compartments, bottom of one compartment. Rec'd 3/9/17. Est. Value—$480.00. Disposition—Item on Display, Pentagon 2E878 | His Majesty Abdullah II Bin al-Hussein, King of the Hashemite Kingdom of Jordan | Non-acceptance would cause embarrassment to donor and U.S. Government.
General Joseph Dunford, Jr., Chairman of the Joint Chiefs of Staff | A plaque, a graphite portrait drawing of General Dunford in uniform, and graphite portrait drawing of Mrs. Dunford, wearing circular earrings, necklace, facing viewer, smiling. Rec'd 8/14/17. Est. Value—$605.00. Disposition—Joint Chiefs of Staff Gift Locker | General Sun-Jin Lee, Chief of Defense of the Republic of Korea (Retired) | Non-acceptance would cause embarrassment to donor and U.S. Government.
General Joseph Dunford, Jr., Chairman of the Joint Chiefs of Staff | Picture, ink and color, depicting sections of the Great Wall of China spanning 3 ranges of hills/mountains, including waterfall, bordered in white silk brocade, framed, a photograph of picture in a double matted and framed, plaque, wood colored reddish, shield shape with incorporated foot, fronted by plastic red star over plastic gold-tone laurel branches over brass tag, vase, porcelain, baluster shape, and tea set, porcelain, displaying scrolling vines with pink water lilies plus smaller blue ones against yellow background, 11 pieces. Rec'd 8/15/17. Est. Value—$1,005.00. Disposition—Unknown | General Fang Fenghui, Chief of the Joint Staff Department of the Central Military Commission of the People's Republic of China | Non-acceptance would cause embarrassment to donor and U.S. Government.
Spouse of General Joseph Dunford, Chairman of Joint Chiefs of Staff | Statue of tree of life with flowers, birds, and human forms. Rec'd 3/29/17. Est. Value—$440.00. Disposition—Joint Chiefs of Staff Gift Locker | Mrs. Georgina Ventura de Soberon, Spouse of the Secretary of the Navy of the United Mexican States | Non-acceptance would cause embarrassment to donor and U.S. Government.
The Honorable Ellen Lord, Under Secretary of Defense, AT&L | Bottles of incense, UAE, presented in glossy wood box with UAE emblem. Rec'd 11/15/17. Est. Value—$430.00. Disposition—WHS Gift Locker | United Arab Emirates | Non-acceptance would cause embarrassment to donor and U.S. Government.
Mr. Burke Wilson, Acting Deputy Assistant Secretary of Defense | Wristwatch by Concord. Rec'd 10/3/17. Est. Value—$2,000.00. Disposition—WHS Gift Locker | Major General Riyadh, the Kingdom of Saudi Arabia | Non-acceptance would cause embarrassment to donor and U.S. Government.
General Paul Selva, Vice Chairman of the Joint Chiefs of Staff | Silver plate and plaque, clear plastic shield form, back etched “Egypt” in ribbon form over roundel with bird. Rec'd unknown. Est. Value—$480.00. Disposition—Joint Chiefs of Staff Gift Locker | Major General Farag Mohamed El Shahat, Director, Military Intelligence and Reconnaissance, Ministry of Defense of the Arab Republic of Egypt | Non-acceptance would cause embarrassment to donor and U.S. Government.
Chief Sergeant Major John W.Troxell, Senior Enlisted Advisor to the Chairman Joint Chief of Staff | Hand carved ceremonial axe (handled adze “toki”) with stand, made of New Zealand jade blade. Rec'd 11/17/16. Est. Value—$390.00. Disposition—on display—Joint Chiefs of Staff Office, Pentagon 2E873 | Warrant Officer Class One Daniel Broughton, Warrant Officer of the Defense Force, New Zealand (CHOD CSEL) | Non-acceptance would cause embarrassment to donor and U.S. Government.
Chief Sergeant Major John W. Troxell, Senior Enlisted Advisor to the Chairman of the Joint Chief of Staff | Three coffee mugs, 2 tie bars gold-tone world hemisphere fronting anchor, magnetic plaques, 2 sets of 4 each, labeled “R.O.C. Marine Corps School”, box of 12 military museum postcards, DVD on military museum, 2 key chains, marked “Go Navy” on silver-tone bar attached to ring, airplane glider in blue on white Styrofoam, T-shirt, pea green synthetic fabric, size XL, world hemisphere fronting anchor printed in black on chest area, 2 pairs of sunglasses green/black camouflage style marked “ROCMC”, in black fabric satchels marked “Marine Corps”, tassels, 2, quasi-triangular 3-D polygon in red with gold-tone tied by gold-tone cord over red string tasseling, red cord, patch, machine-embroidered fabric displaying white radiating sun within blue disk over open book form on red field with yellow plants, magazine, “Defense International”, July 2016 edition, towels, 2, red/white “R.O.C. Marine Corps”, group of 9 travel photographs of military and civilian including John Troxell, group of 5 unframed photos of people including Troxell, group of 13 assorted hats, baseball cap style including 2 tan “Armor”, 2 red “Marines”, one tan “Song Shan Air Force Base”, 2 black “Air Force Institute of Technology—ROCAF”, one pink “Fighting Dragon”, 2 black with gold-tone calligraphy, one “439th Composite Wing”, 2 black “Navy”, and 2 men's jewelry sets consisting of tie bar plus pair of oval cufflinks displaying world hemisphere fronting anchor. Rec'd 5/17/17. Est. Value—$816.00. Disposition—WHS Gift Locker | Government of the People's Republic of China | Non-acceptance would cause embarrassment to donor and U.S. Government.
Lieutenant General Vincent R. Stewart, USMC, Director, Defense Intelligence Agency | Mosaic featuring man and falcon. Rec'd—11/16/16. Est. Value—$490.00. Disposition—Item On Display—DIA Headquarters, 200 MacDill Blvd., Room S601 | Brigadier General Emad Abdelrahman Salem Adaileh, Director, Directorate of Military Intelligence of the Hashemite Kingdom of Jordan | Non-acceptance would cause embarrassment to donor and U.S. Government.
Lieutenant General Vincent R. Stewart, USMC, Director, Defense Intelligence Agency | Metal statue depicting male wearing cape on horseback, spearing a crowned 2-headed dragon, over map outline of the Ukraine, affixed to green marble, Book—Euromaiden, History in the Making, Traditional Ukrainian Shirt with long sleeves. Rec'd 11/21/16. Est. Value—$395.00. Disposition—WHS Gift Locker, Pentagon MF739A, Pending transfer to GSA | General-Major Vasyl Burba, Chief of the Defense Intelligence of Ukraine | Non-acceptance would cause embarrassment to donor and U.S. Government.
Lieutenant General Vincent R. Stewart, USMC, Director, Defense Intelligence Agency | Sword in a wood presentation box, the hinged lid displaying relief-carved scene of man carrying large knife over his shoulder, flanked by Ukraine emblem and foliate scrollwork. Rec'd 12/21/16. Est. Value—$570.00. Disposition—On Display—DIA Headquarters, 200 MacDill Blvd., Room S601 | General Valerii Kondratiuk, Deputy Chief of Staff, Presidential Administration, Ukraine | Non-acceptance would cause embarrassment to donor and U.S. Government.
Lieutenant General Vincent R. Stewart, USMC, Director, Defense Intelligence Agency | Valentino Necktie, pair of Mont Blanc cufflinks, Mont Blanc tie clip. Rec'd 1/9/17. Est. Value—$470.00. Disposition—Pending transfer to GSA | Major General Abdulaziz Al Swailem, Chief, Intelligence and Security Committee of the Saudi Armed Forces, Saudi Arabia | Non-acceptance would cause embarrassment to donor and U.S. Government.
Lieutenant General Vincent R. Stewart, USMC, Director, Defense Intelligence Agency | Rug, Saudi, wool pile, hand woven. Rec'd 1/1/17. Est. Value—$1,000.00. Disposition—Item on Display—DIA | Major General Abdulaziz Al Swailem, Chief, Intelligence and Security Committee of the Saudi Armed Forces | Non-acceptance would cause embarrassment to donor and U.S. Government.
Lieutenant General Vincent R. Stewart, USMC, Director, Defense Intelligence Agency | Coffee pot [“dallah”], Arab style, gilt brass, in presentation box, certificate having cartouche over green rectangular band, in green leatherette presentation album. Rec'd 7/24/17. Est. Value—$485.00. Disposition—WHS Gift Locker | General Abdurahman bin Saleh Al Banyan, Chief of Staff, Ministry of Defense of the Kingdom of Saudi Arabia | Non-acceptance would cause embarrassment to donor and U.S. Government.
Lieutenant General Vincent R. Stewart, USMC, Director, Defense Intelligence Agency | Artwork consisting of two flowers in presentation box, necklace of 80 quasi-round/oblong pearls having in presentation box, basket of faceted clear crystal topped by gold-tone handle plus in presentation box and picture, molded plastic rectangle depicting 2 horses running on beach, sailboat in right background, set against mirror within molded frame, in presentation box. Rec'd 9/24/17. Est. Value—$570.00. Disposition—WHS Gift Locker | Major General Mohamed AL-SHAHAT, Director, Directorate of Military Intelligence and Reconnaissance of the Arab Republic of Egypt | Non-acceptance would cause embarrassment to donor and U.S. Government.
Major General Richard Clarke | Wristwatch by Lockdan in presentation box and plaque displaying Saudi Military emblem surrounded by images of Saudi buildings/monuments plus Saudi emblem of palm tree over crossed sabers, in presentation box. Rec'd—2/8/17. Est. Value—$408.00. Disposition—WHS Gift Locker, Pentagon MF739A, Pending transfer to GSA | Major General Mohammed Al-Ghamdi, Chief, Ministry of Defense J3 of the Kingdom of Saudi Arabia | Non-acceptance would cause embarrassment to donor and U.S. Government.
Major General Jeffrey B. Clark, Director, J3 Operations, Defense Health Agency | Clock, reduced size partial replica of Makkah Clock Tower in Saudi Arabia, showing gold-tone crescent over censer, over faceted green sphere. Rec'd 3/1/17. Est. Value—$450.00. Disposition—WHS Gift Locker | Major General Abdulaziz Al Malik, Deputy Director General, Medical Services Directorate of the Kingdom of Saudi Arabia | Non-acceptance would cause embarrassment to donor and U.S. Government.
Captain Thomas Henderschedt, USN, Navy Affairs Officer, Defense Intelligence Agency | Briefcase, by Tumi, tagged as “Style 0961410H Expandable Organizer Computer Brief”, black cowhide leather with a shoulder strap. Rec'd—4/1/16. Est. Value—$675.00. Disposition—WHS Gift Locker, Pentagon MF739A, Pending transfer to GSA | Rear Admiral Tony Hsu, Navy J2, International Engagements, Taiwan | Non-acceptance would cause embarrassment to donor and U.S. Government.
Admiral Michael S. Rogers, USN, Commander US Cyber Command/DIRNSA/CHCSS | Mosaic of colored stone; depicting flowering tree under which are three deer, one being attacked by a lion, in a metal frame. Rec'd 8/8/16. Est. Value—$465.00. Disposition—WHS Gift Locker | Foreign Official | Non-acceptance would cause embarrassment to donor and U.S. Government.
Vice Admiral Kevin D. Scott, Joint Staff, Legal Counsel | Men's Lockdan wristwatch. Rec'd 2/9/17. Est. Value—$428.00. Disposition—WHS Gift Locker | Major General Ahmed Al Sheri, Chief of the Ministry of Defense, Education and Training Ministry of Defense of the Kingdom of Saudi Arabia | Non-acceptance would cause embarrassment to donor and U.S. Government.
Vice Admiral Raqel Bono, Major General Jeffrey Clark | Clock, reduced size partial replica of Makkah Clock Tower. Rec'd—2/22/17. Est. Value—$450.00. Disposition—Item on Display | Major General Abdulaziz Al Malik, Deputy Director General, Medical Services Directorate, the Kingdom of Saudi Arabia | Non-acceptance would cause embarrassment to donor and U.S. Government.
Mr. Eric Druxman, Chief, Gulf Cooperation Council Branch, Middle East Africa Regional Center, Defense Intelligence Agency | Black leather briefcase. Rec'd 4/1/17. Est. Value—$570.00. Disposition—WHS Gift Locker | Major General Abdulaziz Al Swailem, Chief, Intelligence and Security Committee of the Saudi Armed Forces, Saudi Arabia | Non-acceptance would cause embarrassment to donor and U.S. Government.
Mr. Steven Riccardi, Principal Director | Bowl, brass covered in lapis lazuli panels throughout. Rec'd 4/27/17. Est. Value—$465.00. Disposition—WHS Gift Locker | His Excellency Abdul Khaliq Sarwari, First Deputy Minister of Defense, the Islamic Republic of Afghanistan | Non-acceptance would cause embarrassment to donor and U.S. Government.
Mr. Kevin D. Poling, Strategic Planning, Policy and Performance Management Office, Defense Intelligence Agency | Brown Attaché case made of ostrich skin with embossed Saudi emblem. Rec'd 4/17, Est. Value—$470.00. Disposition—WHS Gift Locker | Major General Abdulaziz Al Swailem, Chief, Intelligence and Security Committee of the Saudi Armed Forces | Non-acceptance would cause embarrassment to donor and U.S. Government.
Ms. Elissa Slotkin, ASD, International Security Affairs | Dress and shawl, holy water from Jordan River in 4 bottles/boxes, plaque depicting crown over falcon clutching crossed sabers flanked by olive branches in presentation box, spa kit including soap/cream/shampoo/lotion, and knife (“kanjar”) with curved steel blade with incised bird and calligraphy on one side secured in sheath. Rec'd 3/30/15. Est. Value—$382.00. Disposition—WHS Gift Locker, Pentagon MF739A, Pending transfer to GSA | Lieutenant General Mashal Salem al-Zaben, Chairman, Joint Chiefs of Staff of the Jordanian Armed Forces | Non-acceptance would cause embarrassment to donor and U.S. Government.
Ms. Elissa Slotkin, ASD, International Security Affairs | Gold-tone cartouche of 6 hieroglyphics on one side and “ELLISA” on other, pendant, yellow gold kneeling female holding up spread wings, stamped in Arabic symbols, and key-chain consisting of polished yellow gold “onk” symbol. Rec'd 9/15/16. Est. Value—$1,190.00. Disposition—WHS Gift Locker, Pentagon MF739A, Pending transfer to GSA | Younis El Masri, Lieutenant General (Air Force Commander), the Arab Republic of Egypt | Non-acceptance would cause embarrassment to donor and U.S. Government.
A Department of Defense Employee | Statue, cast resin, standing Oryx with spiral twist antlers held back, secured over gold-tone medallion affixed to walnut base with Qatar emblem on front. Rec'd unknown. Est. Value—$900.00. Disposition—WHS Gift Locker | Government of the State of Qatar | Non-acceptance would cause embarrassment to donor and U.S. Government.

Agency: The Department of Agriculture
[Report of Tangible Gifts Furnished by the Department of Agriculture]
Name and title of person accepting the gift on behalf of the U.S. Government | Gift, date of acceptance on behalf of the U.S. Government, estimated value, and current disposition or location | Identity of foreign donor and government | Circumstances justifying acceptance
Natural Agricultural Library (NAL) | Mango Encyclopedia Set—Oman Encyclopedia on Mango Production and Utilization 3 books (English, Spanish & French) standard edition, volume 2.2. Rec'd 7/19/17. Est. Value—$1,945.00. Disposition—National Agricultural Library for Official Use | Embassy of Oman | Non-acceptance would cause embarrassment to donor and U.S. Government.
Agricultural Research Service (ARS) | Mango Encyclopedia Set—Oman Encyclopedia on Mango Production and Utilization 3 books (English, Spanish & French) standard edition, volume 2.2. Rec'd 7/19/17. Est. Value—$1,945.00. Disposition—National Agricultural Library for Official Use | Embassy of Oman | Non-acceptance would cause embarrassment to donor and U.S. Government.

Agency: The Department of the Air Force
[Report of Tangible Gifts Furnished by the Department of the Air Force]
Name and title of person accepting the gift on behalf of the U.S. Government | Gift, date of acceptance on behalf of the U.S. Government, estimated value, and current disposition or location | Identity of foreign donor and government | Circumstances justifying acceptance
The Honorable Deborah James, Air Force Secretary | Adante Leyesa purse. Rec'd 7/25/17. Est. Value—$450.00. Disposition—Pending transfer to GSA | Foreign Government Official | Non-acceptance would cause embarrassment to donor and U.S. Government.
U.S. Air Force Employee | Chopard watch, pen, cufflink set. Rec'd 10/19/17. Est. Value—$6,151.00. Disposition—Pending transfer to GSA | Foreign Government Official | Non-acceptance would cause embarrassment to donor and U.S. Government.
U.S. Air Force Employee | Tissot men's watch. Rec'd 10/19/17. Est. Value—$437.00. Disposition—Pending transfer to GSA | Foreign Government Official | Non-acceptance would cause embarrassment to donor and U.S. Government.
U.S. Air Force Employee | Cartier pen. Rec'd 10/19/17. Est. Value—$540.00. Disposition—Pending transfer to GSA | Foreign Government Official | Non-acceptance would cause embarrassment to donor and U.S. Government.
U.S. Air Force Employee | Raymone Weil jasmine women's watch. Rec'd 10/19/17. Est. Value—$1,495.00. Disposition—Pending transfer to GSA | Foreign Government Official | Non-acceptance would cause embarrassment to donor and U.S. Government.
U.S. Air Force Employee | Raymone Weil tango women's watch. Rec'd 10/19/17. Est. Value—$1,095.00. Disposition—Pending transfer to GSA | Foreign Government Official | Non-acceptance would cause embarrassment to donor and U.S. Government.
U.S. Air Force Employee | Raymond Weil tango men's watch. Rec'd 10/19/17. Est. Value—$671.00. Disposition—Pending transfer to GSA | Foreign Government Official | Non-acceptance would cause embarrassment to donor and U.S. Government.
U.S. Air Force Employee | Rolex oyster perpetual men's watch. Rec'd 10/19/17. Est. Value—$6,300.00. Disposition—Pending transfer to GSA | Foreign Government Official | Non-acceptance would cause embarrassment to donor and U.S. Government.
U.S. Air Force Employee | Longines hydoquest men's watch. Rec'd 10/19/17. Est. Value—$715.00. Disposition—Pending transfer to GSA | Foreign Government Official | Non-acceptance would cause embarrassment to donor and U.S. Government.
U.S. Air Force Employee | Raymond Weil tango men's watch. Rec'd 10/19/17. Est. Value—$499.00. Disposition—Pending transfer to GSA | Foreign Government Official | Non-acceptance would cause embarrassment to donor and U.S. Government.
U.S. Air Force Employee | Mercury men's watch. Rec'd 10/19/17. Est. Value—$824.00. Disposition—Pending transfer to GSA | Foreign Government Official | Non-acceptance would cause embarrassment to donor and U.S. Government.
U.S. Air Force Employee | Givenchy men's watch. Rec'd 10/19/17. Est. Value—$455.00. Disposition—Pending transfer to GSA | Foreign Government Official | Non-acceptance would cause embarrassment to donor and U.S. Government.
U.S. Air Force Employee | Equss women's watch. Rec'd 10/19/17. Est. Value—$701.00. Disposition—Pending transfer to GSA | Foreign Government Official | Non-acceptance would cause embarrassment to donor and U.S. Government.
U.S. Air Force Employee | Louis Erard lady's watch. Rec'd 10/10/17. Est. Value—$1,294.00. Disposition—Pending transfer to GSA | Foreign Government Official | Non-acceptance would cause embarrassment to donor and U.S. Government.
U.S. Air Force Employee | Raymone Weil geneve watch- Rec'd 3/3/17. Est. Value—$400.00. Disposition—Pending transfer to GSA | Foreign Government Official | Non-acceptance would cause embarrassment to donor and U.S. Government.
U.S. Air Force Employee | Gold cartouche w/chain. Rec'd 2/28/17. Est. Value—$640.00. Disposition—Pending transfer to GSA | General Hahmond Hegazy, Chief of Staff of the Egyptian Armed Forces | Non-acceptance would cause embarrassment to donor and U.S. Government.
Lieutenant General John W. Hesterman III, Commander AFCENT | S.T. Dupont carry-on suitcase, men's watch, fountain pen, cufflink set. Rec'd 7/25/17. Est. Value—$2,872.00. Disposition—Pending transfer to GSA | Major General Al Mubarak, Commander, Armed Forces of the State of Qatar | Non-acceptance would cause embarrassment to donor and U.S. Government.
Lieutenant General John W. Hesterman III, Commander AFCENT | Cargo men's & ladies watch set, Men's Samalto watch. Pen, cufflink set, Ladies JBR watch, pen, phone chain set, Samsonite suitcase. Rec'd 7/25/17. Est. Value—$2,000.00. Disposition—Pending transfer to GSA | Major General Hamad bin Al Atiyah, Armed Forces of the State of Qatar | Non-acceptance would cause embarrassment to donor and U.S. Government.
General David Goldfein, Air Force Chief of Staff | Louis Erard men's & ladies watch set, American Tourister suitcase. Rec'd 7/25/17. Est. Value—$2,200.00. Disposition—Pending transfer to GSA | Major General Malek Salameh Habashneh, Commander, Armed Forces of the State of Qatar | Non-acceptance would cause embarrassment to donor and U.S. Government.
Major General Jeffrey Lofgren, Air Force | Schroeder watch & pen set. Rec'd 7/25/17. Est. Value—$928.00. Disposition—Pending transfer to GSA | Brigadier General Ali Al-Neyadi, Commander, United Arab Emirates | Non-acceptance would cause embarrassment to donor and U.S. Government.
Lieutenant General John W. Hesterman III, Commander AFCENT | JBR ladies watch, Santhome wallet, P. Cardin pen & phone chain set. Rec'd 7/25/17. Est. Value—$1,000. Disposition—Pending transfer to GSA | Major General Hamad bin Al Atiyah, Ministry of Defense of the State of Qatar | Non-acceptance would cause embarrassment to donor and U.S. Government.
Lieutenant General Jeffrey Harringian, Air Force | Monte Blanc portfolio bag, wallet, pen set. Rec'd 7/25/17. Est. Value—$1,368.00. Disposition—Pending transfer to GSA | Major General Bin Saleh Al-Otaibl, Commander, the State of Kuwait | Non-acceptance would cause embarrassment to donor and U.S. Government.
Lieutenant General Jeffrey Harringian, Air Force | Versace men's watch. Rec'd 4/19/17. Est. Value—$1,491. Disposition—Pending transfer to GSA | General Al-Rumaythi, Hamad Muhammond Thani, Chief of Staff of the Armed Forces for the United Arab Emirates | Non-acceptance would cause embarrassment to donor and U.S. Government.
Mr. John Polhemus, Joint Base Andrews Protocol | One Ebel classic men's watch. Rec'd 6/16/17. Est. Value—$1,550.00. Disposition—Pending transfer to GSA | Mr. Elie, Nour, Defense Attaché, the State of Qatar | Non-acceptance would cause embarrassment to donor and U.S. Government.

Agency: The Department of Justice
[Report of Travel and Report of Tangible Gifts Furnished by the Department of Justice]
Name and title of person accepting the gift on behalf of the U.S. Government | Gift, date of acceptance on behalf of the U.S. Government, estimated value, and current disposition or location | Identity of foreign donor and government | Circumstances justifying acceptance
The Honorable Jefferson B. Sessions III, Attorney General of the United States | Hand-knotted partial silk Persian carpet. Rec'd 5/19/17. Est. Value—$400.00. Disposition—Transferred to Justice Management Division | Dr. Ali Bin Fetais Al Marri, Attorney General, the State of Qatar | Non-acceptance would cause embarrassment to donor and U.S. Government.
Ms. Naomi Adaniya, Political analyst | TRAVEL: Lodging, meals, and transportation in Jamaica. Rec'd 1/14/17-1/22/17. Est. Value—$390.00 | His Excellency, Roberto Garcia, Ambassador of Colombia to Jamaica | Non-acceptance would cause embarrassment to donor and U.S. Government.
Mr. Kyle Williamson, Regional Director, Middle East Region, DEA | Bentley men's watch. Rec'd 5/12/17. Est. Value—$13,000.00. Disposition—Transferred to GSA | Brigadier: Ahmed Bin Khalifa Al Kuwari, Director of the Drug Prevention Department, Ministry of Interior, State of Qatar | Non-acceptance would cause embarrassment to donor and U.S. Government.

Agency: The Department of the Navy
[Report of Tangible Gifts Furnished by the Department of the Navy]
Name and title of person accepting the gift on behalf of the U.S. Government | Gift, date of acceptance on behalf of the U.S. Government, estimated value, and current disposition or location | Identity of foreign donor and government | Circumstances justifying acceptance
Admiral John Richardson, U.S. Navy, Chief of Naval Operations | Isfahan style rug. Rec'd 9/20/2016. Est. Value—$6,310.00. Disposition—Retained for official display | Major General Khaled Abdullah, Chief of Naval Operations of the State of Kuwait | Non-acceptance would cause embarrassment to donor and U.S. Government.
Vice Admiral Kevin Donegan, U.S. Navy, Commander, U.S. Naval Forces Central Command, Commander, U.S. FIFTH Fleet/Combined Maritine Forces | Versace men's HELLENYIUM GMT Swiss Quartz Stainless Steel Blue Watch. Rec'd 8/29/17. Est. Value—$469.00. Disposition—Pending transfer to GSA | Major General Aqab Shaheen Aqab Al-Ali, Director of Military Intelligence and Security Staff of the United Arab Emirates | Non-acceptance would cause embarrassment to donor and U.S. Government.
Vice Admiral Kevin Donegan, U.S. Navy, Commander, U.S. Naval Forces Central Command, Commander, U.S. FIFTH Fleet/Combined Maritine Forces | Versace women's HELLENYIUM rose stainless steel watch. Rec'd 8/29/17. Est. Value—$896.54. Disposition—Pending Transfer to GSA | Major General Aqab Shaheen Aqab Al-Ali, Director of Military Intelligence and Security Staff of the United Arab Emirates | Non-acceptance would cause embarrassment to donor and U.S. Government.
Vice Admiral Kevin Donegan, U.S. Navy, Commander, U.S. Naval Forces Central Command, Commander, U.S. FIFTH Fleet/Combined Maritine Forces | Movado Museum stainless steel with diamond dial men's watch. Rec'd 8/29/17. Est. Value—$1,095.00. Disposition—Pending transfer to GSA | Major General Aqab Shaheen Aqab Al-Ali, Director of Military Intelligence and Security Staff of the United Arab Emirates | Non-acceptance would cause embarrassment to donor and U.S. Government.
Vice Admiral Kevin Donegan, U.S. Navy, Commander, U.S. Naval Forces Central Command, Commander, U.S. FIFTH Fleet/Combined Maritine Forces | Movado men's watch series 800 Stainless Steel with blue dial. Rec'd 8/29/17. Est. Value—$995.00. Disposition—Pending transfer to GSA | Major General Ibrahim Salem Al Musharrakh, Commander, United Arab Emirates | Non-acceptance would cause embarrassment to donor and U.S. Government.
Vice Admiral Kevin Donegan, U.S. Navy, Commander, U.S. Naval Forces Central Command, Commander, U.S. FIFTH Fleet/Combined Maritine Forces | Montblanc JFK Limited Edition 1917 Ball Point Pen. Rec'd 9/13/17. Est. Value—$3,275.00. Disposition—Pending transfer to GSA | His Highness Shaikh Khalifa Bin Salman Al Khalifa, Prime Minister of the Kingdom of Bahrain | Non-acceptance would cause embarrassment to donor and U.S. Government.
Vice Admiral John W. Miller, U.S. Navy, Commander, U.S. Naval Forces Central Command, Commander, U.S. FIFTH Fleet/Combined Maritine Forces | Set of six silver napkin holders. Rec'd 2/9/14. Est. Value—$483.70. Disposition—Pending transfer to GSA | Rear Admiral Abdullah Al-Raisi, Commander of the Royal Navy of Oman | Non-acceptance would cause embarrassment to donor and U.S. Government.
Vice Admiral John W. Miller, U.S. Navy, Commander, U.S. Naval Forces Central Command, Commander, U.S. FIFTH Fleet/Combined Maritine Forces | Tissot men's watch. Rec'd 6/19/14. Est. Value—$421.87. Disposition—Pending transfer to GSA | Rear Admiral Maglouth, Commander of the Royal Saudi Navy Eastern Fleet | Non-acceptance would cause embarrassment to donor and U.S. Government.
Vice Admiral John W. Miller, U.S. Navy, Commander, U.S. Naval Forces Central Command, Commander, U.S. FIFTH Fleet/Combined Maritine Forces | Wooden jewelry box. Rec'd 8/20/13. Est. Value—$325.00. Disposition—Pending transfer to GSA | His Excellency Albert Rosario, Secretary of Foreign Affairs of the Republic of the Philippines | Non-acceptance would cause embarrassment to donor and U.S. Government.
Vice Admiral John W. Miller, U.S. Navy, Commander, U.S. Naval Forces Central Command, Commander, U.S. FIFTH Fleet/Combined Maritine Forces | Al Jazeera musk and Paris perfume gift set. Rec'd 4/15/15. Est. Value—$500.00. Disposition—Pending transfer to GSA | Commodore Mohammed Nasser al-Mohanadi, Head of Navy, State of Qatar | Non-acceptance would cause embarrassment to donor and U.S. Government.
Vice Admiral John W. Miller, U.S. Navy, Commander, U.S. Naval Forces Central Command, Commander, U.S. FIFTH Fleet/Combined Maritine Forces | Omega men's watch. Rec'd 6/24/15.Est. Value—$2,700.00. Disposition—Pending transfer to GSA | Lieutenant General Mohammed Khaled Al-Khadher, Chief of Staff of the Kuwaiti Armed Forces | Non-acceptance would cause embarrassment to donor and U.S. Government.
Vice Admiral John W. Miller, U.S. Navy, Commander, U.S. Naval Forces Central Command, Commander, U.S. FIFTH Fleet/Combined Maritine Forces | 18 piece cutlery set. Rec'd 8/7/12. Est. Value—$199.00. Disposition—Pending transfer to GSA | General Jean Kahwagi, Commander of the Lebanese Armed Forces | Non-acceptance would cause embarrassment to donor and U.S. Government.
Vice Admiral John W. Miller, U.S. Navy, Commander, U.S. Naval Forces Central Command, Commander, U.S. FIFTH Fleet/Combined Maritine Forces | Chopard Milla XL pen, watch and cufflink gift set. Rec'd 4/15/15. Est. Value—$6,190.00. Disposition—Pending transfer to GSA | Commodore Mohammed Nasser al-Mohanadi, Head of the Navy of the State of Qatar | Non-acceptance would cause embarrassment to donor and U.S. Government.
Vice Admiral John W. Miller, U.S. Navy, Commander, U.S. Naval Forces Central Command, Commander, U.S. FIFTH Fleet/Combined Maritine Forces | 18 piece cutlery set. Rec'd 8/7/12. Est. Value—$199.00. Disposition—Pending transfer to GSA | General Jean Kahwagi, Commander of the Lebanese Armed Forces | Non-acceptance would cause embarrassment to donor and U.S. Government.
Vice Admiral Mark I. Fox, U.S. Navy, Commander, U.S. Naval Forces Central Command, Commander, U.S. FIFTH Fleet/Combined Maritine Forces | 18 piece cutlery set. Rec'd 2/21/12. Est. Value—$199.00. Disposition—Pending transfer to GSA | General Jean Kahwagi, Commander of the Lebanese Armed Forces | Non-acceptance would cause embarrassment to donor and U.S. Government.
Vice Admiral Mark I. Fox, U.S. Navy, Commander, U.S. Naval Forces Central Command, Commander, U.S. FIFTH Fleet/Combined Maritine Forces | 14″ tall decorative blue bowl. Rec'd 12/5/11. Est. Value—$625.00. Disposition—Item was damaged in shipping, report of loss was documented | Lieutenant General Ahmed Al-Nabhani, Chief of Staff of the Sultan's Armed Forces of Oman | Non-acceptance would cause embarrassment to donor and U.S. Government.
Vice Admiral Mark I. Fox, U.S. Navy, Commander, U.S. Naval Forces Central Command, Commander, U.S. FIFTH Fleet/Combined Maritine Forces | Sterling silver Khanjar ceremonial knife and scabbard. Rec'd 8/29/12. Est. Value—$975.00. Disposition—Pending transfer to GSA | His Royal Highness Prince Salman bin Hamad bin Isa al Khalifa, Deputy King, Crown Prince of the Kingdom of Bahrain | Non-acceptance would cause embarrassment to donor and U.S. Government.
Rear Admiral Charles B. Cooper, U.S. Navy, Commander, U.S. Naval Forces Korea | Women's D.N.A.golf shoes. Rec'd 12/30/17. Est. Value—$169.99. Disposition—Pending transfer to GSA | Vice Admiral Jung, Jin-sup, Republic of Korean Navy, Commander, Republic of Korea Fleet | Non-acceptance would cause embarrassment to donor and U.S. Government.
Rear Admiral Charles B. Cooper, U.S. Navy, Commander, U.S. Naval Forces Korea | Men's D.N.A.golf shoes. Rec'd 12/30/17. Est. Value—$149.99. Disposition—Pending transfer to GSA | Vice Admiral Jung, Jin-sup, Republic of Korean Navy, Commander, Republic of Korea Fleet | Non-acceptance would cause embarrassment to donor and U.S. Government.
Rear Admiral Charles B. Cooper, U.S. Navy, Commander, U.S. Naval Forces Korea | DAKS black belt and wallet. Rec'd 12/30/17. Est. Value—$135.80. Disposition—Pending transfer to GSA | Vice Admiral Jung, Jin-sup, Republic of Korean Navy, Commander, Republic of Korea Fleet | Non-acceptance would cause embarrassment to donor and U.S. Government.
Rear Admiral Charles B. Cooper, U.S. Navy, Commander, U.S. Naval Forces Korea | Sulwhasoo cosmetic gift set. Rec'd 12/30/17. Est. Value—$121.00. Disposition—Pending transfer to GSA | Vice Admiral Jung, Jin-sup, Republic of Korean Navy, Commander, Republic of Korea Fleet | Non-acceptance would cause embarrassment to donor and U.S. Government.
Rear Admiral Charles B. Cooper, U.S. Navy, Commander, U.S. Naval Forces Korea | Korean dish set. Rec'd 12/30/17. Est. Value—$74.26. Disposition—Pending transfer to GSA | Vice Admiral Jung, Jin-sup, Republic of Korean Navy, Commander, Republic of Korea Fleet | Non-acceptance would cause embarrassment to donor and U.S. Government.
Rear Admiral Charles B. Cooper, U.S. Navy, Commander, U.S. Naval Forces Korea | Wine bottle holder. Rec'd 12/30/17. Est. Value—$115.00. Disposition—Pending transfer to GSA | Vice Admiral Jung, Jin-sup, Republic of Korean Navy, Commander, Republic of Korea Fleet | Non-acceptance would cause embarrassment to donor and U.S. Government.
Rear Nancy Norton, U.S. Navy, Director, Warfare Integration for Information Warfare | Aigner women's watch. Rec'd 5/11/17. Est. Value—$784.24. Disposition—Pending transfer to GSA | Brigadier General Matar Kh. Altunau, Intelligence Center Commander, United Arab Emirates Navy | Non-acceptance would cause embarrassment to donor and U.S. Government.

Agency: The Department of Transportation
[Report of Gift of Travel Furnished by the Department of Transportation]
Name and title of person accepting the gift on behalf of the U.S. Government | Gift, date of acceptance on behalf of the U.S. Government, estimated value, and current disposition or location | Identity of foreign donor and government | Circumstances justifying acceptance
Mr. Tony Padilla, Senior Advisor, International Affairs | TRAVEL: Gifted airfare, lodging, and MI&E in Dhaka, Bangladesh. Rec'd 6/10/17. Est. Value—$2,931.00 | World Bank Group | Non-acceptance would cause embarrassment to donor and U.S. Government.
Mr. Dennis Dvorak, Senior Pavement and Materials Engineer | TRAVEL: Airline transportation, four nights of lodging and four days of meals. Rec'd 7/31/17. Est. Value—$1,350.00 | Manitoba Infrastructure, Canada | Non-acceptance would cause embarrassment to donor and U.S. Government.
Mr. Robert Conway, Pavement and Materials Engineer | TRAVEL: Airline transportation, four nights of lodging and four days of meals. Rec'd 7/31/2017. Est. Value—$1,350.00 | Manitoba Infrastructure, Canada | Non-acceptance would cause embarrassment to donor and U.S. Government.

Agency: Department of the Treasury
[Report of Tangible Gifts Furnished by the Department of the Treasury]
Name and title of person accepting the gift on behalf of the U.S. Government | Gift, date of acceptance on behalf of the U.S. Government, estimated value, and current disposition or location | Identity of foreign donor and government | Circumstances justifying acceptance
Mr. Eli Miller, Chief of Staff | Box of 43 cigars and humidor. Rec'd 11/7/2017. Est. Value—$616.97. Disposition—Purchased from Donor by Employee. | Mr. Ali Bin Fetals Al Marri, Attorney General of Qatar, Government of the State of Qatar | Non-acceptance would cause embarrassment to donor and U.S. Government.

Agency: Office of the Director of National Intelligence
[Report of Tangible Gifts Furnished by the Office of the Director of National Intelligence]
Name and title of person accepting the gift on behalf of the U.S. Government | Gift, date of acceptance on behalf of the U.S. Government, estimated value, and current disposition or location | Identity of foreign donor and government | Circumstances justifying acceptance
5 U.S.C. 7342(f)(4) | Framed impressionist print by 20th century painter. Rec'd 1/28/2015. Est. Value—$500.00. Disposition—On Official Display | 5 U.S.C. 7342(f)(4) | Non-acceptance would cause embarrassment to donor and U.S. Government.
5 U.S.C. 7342(f)(4) | Dagger with leather and silver sheath and brooch in 18 karat gold with sapphires. Rec'd 11/9/2016. Est. Value—$500.00. Disposition—On Official Display | 5 U.S.C. 7342(f)(4) | Non-acceptance would cause embarrassment to donor and U.S. Government.

Agency: Smithsonian Institution
[Report of Tangible Gifts Furnished by the Smithsonian Institution]
Name and title of person accepting the gift on behalf of the U.S. Government | Gift, date of acceptance on behalf of the U.S. Government, estimated value, and current disposition or location | Identity of foreign donor and government | Circumstances justifying acceptance
Mr. David Skorton, Secretary, Smithsonian Institution | Gold enameled box containing coffee/tea pot, three porcelain tea cups and coffee canister; golden enameled box containing dried figs. Rec'd 9/25/17. Est. Value—$4,000.00. Disposition—Kept for use in the OS Office | Saudi Aramco Oil Company | Non-acceptance would cause embarrassment to donor and U.S. Government.
Mr. David Skorton, Secretary, Smithsonian Institution | 25″ x 21″ painting of a horse; a geological core sample dating from 150M years ago; a sculpture from the King Abdulaziz Center for World Culture; a woven bag; a pair of leather sandals; a metal canister with tea cups; a Lenovo tablet computer (model TB2-X30L); a flash drive; 4 small books of “Contemporary Art from Saudi Arabia” from 2016-2017; information booklet titled “King Abdulaziz Center for World Culture: An Overview;” a small glass jar of red sand; white robe with tassles, ghutra (head scarf) and egal (band for scarf); a bag for The National Museum containing a bronze plaque inscribed in Musnad script from the 3rd century BCE and a Riyadh National Museum Guide and various pamphlets; a DVD from the Museum of the International Taibat City of Science and Knowledge and book “Al Tayebat International City for Sciences & Knowledge; two sets each of: DVD titled “Wadi Hanifah: A Journey of Change;” book titled “Addiriyah: The Glorious Past and the Bright Future;” pamphlet titled “Wadi Hanifah Restoration Project;” Saudi Arabia Arriyadh Development Authority booklet “Investment Climate in Arriyadh 2015;” book titled “Al Bujairi: Heart of the Call;” book titled “The King Abdulaziz Historical Centre”. Rec'd unknown. Est. Value—$500.00. Disposition—Kept for use in OS office | Saudi Aramco Oil Company | Non-acceptance would cause embarrassment to donor and U.S. Government.

Agency: United States Agency of International Development
[Report of Gifts of Travel Furnished by USAID]
Name and title of person accepting the gift on behalf of the U.S. Government | Gift, date of acceptance on behalf of the U.S. Government, estimated value, and current disposition or location | Identity of foreign donor and government | Circumstances justifying acceptance
USAID Mission Director for Jordan | TRAVEL: Mission Director's travel to attend 2018 World Government Summit in Dubai. Rec'd 2/10/17. Est. Value—$1,700.00 | The World Government Summit | Non-acceptance would cause embarrassment to donor and U.S. Government.

Agency: United States House of Representatives
[Report of Tangible Gifts and Gifts of Travel Furnished by the U.S. House of Representatives]
Name and title of person accepting the gift on behalf of the U.S. Government | Gift, date of acceptance on behalf of the U.S. Government, estimated value, and current disposition or location | Identity of foreign donor and government | Circumstances justifying acceptance
The Honorable Paul Ryan, Speaker of the House | Statue of a famine ship which depicts the survivors disembarking. Rec'd 3/16/17. Est. Value—$4,000.00. Disposition—On Display in H-217 Capitol | His Excellency Enda Kenny, Prime Minister of Ireland | Non-acceptance would cause embarrassment to donor and U.S. Government.
The Honorable Paul Ryan, Speaker of the House | Historical coin cufflinks. Rec'd 6/7/17. Est. Value—$1,000.00. Disposition—On Display in the Speaker's Office | The State of Israel | Non-acceptance would cause embarrassment to donor and U.S. Government.
Ms. Amanda Hamilton, Deputy Chief of Staff | TRAVEL: Lodging, meals, and incidental expenses. Rec'd 5/26-6/4/17. Est. Value—Unknown | Bundestag/Bundesrat, The Federal Republic of Germany | Non-acceptance would cause embarrassment to donor and U.S. Government.
Mr. Philip J. Bednardsyk Democratic Staff Director, Subcommittee on Europe and Eurasia | TRAVEL: Local travel costs in UK (bus, boat), lodging, and program related meals. Rec'd 4/19-4/23/17. Est. Value—Unknown | Mr. Michael Meier, FES Representative to the U.S. and Canada | Non-acceptance would cause embarrassment to donor and U.S. Government.
Mr. John P. Marshall, Senior Policy Advisor | TRAVEL: Lodging, meals, and incidental expenses. Rec'd 5/26-6/7/17. Est. Value—Unknown | Bundestag/Bundesrat, The Federal Republic of Germany | Non-acceptance would cause embarrassment to donor and U.S. Government.
Mr. Sean Maxwell, Legislative Director/Rep. David Price | TRAVEL: Lodging, meals, and incidental expenses. Rec'd 5/26-6/4/17. Est. Value—Unknown | Bundestag/Bundesrat, The Federal Republic of Germany | Non-acceptance would cause embarrassment to donor and U.S. Government.
Mr. Anthony Sciascia, Counsel, Office of Legislative Counsel | TRAVEL: Lodging, meals, and incidental expenses. Rec'd 5/26-6/4/17. Est. Value—Unknown | Bundestag/Bundesrat, The Federal Republic of Germany | Non-acceptance would cause embarrassment to donor and U.S. Government.
Mr. Jason Smith, Assistant Parliamentarian | TRAVEL: Lodging, meals, and incidental expenses. Rec'd 5/26-6/4/17. Est. Value—Unknown | Bundestag/Bundesrat, The Federal Republic of Germany | Non-acceptance would cause embarrassment to donor and U.S. Government.
Mr. Daniel Tidwell | TRAVEL: Lodging, meals, and incidental expenses. Rec'd 5/26-6/6/17. Est. Value—Unknown | Bundestag/Bundesrat, The Federal Republic of Germany | Non-acceptance would cause embarrassment to donor and U.S. Government.
Mr. Mac Tolar | TRAVEL: Lodging, meals, and incidental expenses. Rec'd 5/26-6/4/17. Est. Value—Unknown | Bundestag/Bundesrat, The Federal Republic of Germany | Non-acceptance would cause embarrassment to donor and U.S. Government.
The Honorable Mark Takano | TRAVEL: Local travel costs in UK (bus, boat), lodging and program related meals. Rec'd 4/19-4/22/17. Est. Value—Unknown | Friedrich Ebert Foundation, the Federal Republic of Germany | Non-acceptance would cause embarrassment to donor and U.S. Government.
Mr. Michael Mucchetti, Chief of Staff, Rep. Lloyd Doggett | TRAVEL: Local travel costs in UK (bus, boat), lodging and program related meals. Rec'd 4/19-4/22/17. Est. Value—Unknown | Friedrich Ebert Foundation, the Federal Republic of Germany | Non-acceptance would cause embarrassment to donor and U.S. Government.
Richard McPike, Chief of Staff, Rep. Mark Takano | TRAVEL: Local travel costs in UK (bus, boat), lodging and program related meals. Rec'd 4/19-4/22/17. Est. Value—Unknown | Friedrich Ebert Foundation, the Federal Republic of Germany | Non-acceptance would cause embarrassment to donor and U.S. Government.

Agency: United States Senate
[Report of Tangible Gifts Furnished by the United States Senate]
Name and title of person accepting the gift on behalf of the U.S. Government | Gift, date of acceptance on behalf of the U.S. Government, estimated value, and current disposition or location | Identity of foreign donor and government | Circumstances justifying acceptance
The Honorable Mitch McConnell, Majority Leader of the United States Senate | William & Son pen set. Rec'd 11/29/2017. Est. Value—$600.00. Disposition—Deposited with the Secretary of the Senate | His Royal Highness Prince Salman bin Hamad bin Isa Al Khalifa, Crown Prince of the Kingdom of Bahrain | Non-acceptance would cause embarrassment to donor and U.S. Government.
The Honorable Jack Reed, United States Senator | Narai Phand pewter tea set. Rec'd 4/27/2018. Est. Value—$981.53. Disposition—Deposited with the Secretary of the Senate | General Thawip Netniyom, Secretary General of the National Security Council of the Kingdom of Thailand | Non-acceptance would cause embarrassment to donor and U.S. Government.
The Honorable John McCain, United States Senator | Ceremonial pistol. Rec'd 7/4/2017. Est. Value—$500.00. Disposition—Deposited with the Secretary of the Senate | General Qamar Javed Bajwa, Chief of Army Staff of the Islamic Republic of Pakistan | Non-acceptance would cause embarrassment to donor and U.S. Government.
The Honorable Lindsey Graham, United States Senator | Ceremonial pistol. Rec'd 7/4/2017. Est. Value—$500.00. Disposition—Deposited with the Secretary of the Senate | General Qamar Javed Bajwa, Chief of Army Staff, of the Islamic Republic of Pakistan | Non-acceptance would cause embarrassment to donor and U.S. Government.
Ms. Margaret Murphy, Chief of Protocol and Foreign Travel, Committee on Foreign Relations | Longines Conquest steel watch. Rec'd 2/15/2017. Est. Value—$746.00. Disposition—Deposited with the Secretary of the Senate | His Majesty, King Abdullah II ibn Al-Hussein of the Hashemite Kingdom of Jordan | Non-acceptance would cause embarrassment to donor and U.S. Government.

[FR Doc. 2019-04063 Filed 3-6-19; 8:45 am]

BILLING CODE 4710-20-P